FEDERAL COMMUNICATIONS COMMISSION

47 CFR Part 10

[PS Docket No. 15-91; PS Docket No. 15-94; DA 24-137 FR ID 210081]

Wireless Emergency Alerts; Regarding the Emergency Alert System

AGENCY: Federal Communications Commission.

ACTION: Proposed rule.

SUMMARY: In this document, the Public Safety and Homeland Security Bureau (Bureau) seeks comment on specific mechanisms to implement multilingual Wireless Emergency Alerts (WEA), as directed by the Federal Communications Commission. The Bureau proposes to require commercial mobile service providers participating in WEA (Participating CMS Providers) to support a set of pre-translated WEA messages in English, the 13 most commonly spoken languages in the United States, and American Sign Language (ASL), that would be pre-installed and stored on mobile devices. These messages—called templates—would be displayed at the option of the alert originator. The Bureau also seeks comment on support for form-fillable templates that would include information specific to the particular emergency. Finally, the Bureau seeks comment on whether Participating CMS Providers' device offerings should support templates in additional languages.

DATES: Comments are due on or before June 12, 2024 and reply comments are due on or before July 12, 2024.

ADDRESSES: Pursuant to sections 1.415 and 1.419 of the Commission's rules, 47 CFR 1.415, 1.419, interested parties may file comments and reply comments on or before the dates indicated on the first page of this document. Comments may be filed using the Commission's Electronic Comment Filing System (ECFS). See Electronic Filing of Documents in Rulemaking Proceedings, 63 FR 24121 (1998).

• Electronic Filers: Comments may be filed electronically using the internet by accessing the ECFS: https://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020), https://www.fcc.gov/document/fcc-closes-headquarters-open-window-and-changes-hand-delivery-policy.

People with Disabilities: To request materials in accessible formats for people with disabilities (Braille, large print, electronic files, audio format), send an email to fcc504@fcc.gov or call the Consumer & Governmental Affairs Bureau at 202-418-0530 (voice) or 202-418-0432 (TTY).

FOR FURTHER INFORMATION CONTACT: For further information regarding this document, please contact Joshua Gehret, Cybersecurity and Communications Reliability Division, Public Safety and Homeland Security Bureau, (202) 418-7816, or by email to joshua.gehret@fcc.gov.

SUPPLEMENTARY INFORMATION: This is a summary of the Bureau's document in PS Docket Nos. 15-91, 15-94, DA 24-137, released February 15, 2024. The full text if this document is available at: https://docs.fcc.gov/public/attachments/DA-24-137A1.pdf. An erratum correcting the document was released on April 1, 2024 and is available at https://docs.fcc.gov/public/attachments/DOC-401561A1.pdf. A second erratum correcting the document was released on April 29, 2024 and is available at https://docs.fcc.gov/public/attachments/DOC-402212A1.pdf.

Ex Parte Rules. The proceeding this document initiates shall be treated as a “permit-but-disclose” proceeding in accordance with the Commission's ex parte rules. Persons making ex parte presentations must file a copy of any written presentation or a memorandum summarizing any oral presentation within two business days after the presentation (unless a different deadline applicable to the Sunshine period applies). Persons making oral ex parte presentations are reminded that memoranda summarizing the presentation must (1) list all persons attending or otherwise participating in the meeting at which the ex parte presentation was made, and (2) summarize all data presented and arguments made during the presentation. If the presentation consisted in whole or in part of the presentation of data or arguments already reflected in the presenter's written comments, memoranda or other filings in the proceeding, the presenter may provide citations to such data or arguments in his or her prior comments, memoranda, or other filings (specifying the relevant page and/or paragraph numbers where such data or arguments can be found) in lieu of summarizing them in the memorandum. Documents shown or given to Commission staff during ex parte meetings are deemed to be written ex parte presentations and must be filed consistent with rule 1.1206(b). In proceedings governed by rule 1.49(f) or for which the Commission has made available a method of electronic filing, written ex parte presentations and memoranda summarizing oral ex parte presentations, and all attachments thereto, must be filed through the electronic comment filing system available for that proceeding, and must be filed in their native format (e.g., .doc, .xml, .ppt, searchable .pdf). Participants in this proceeding should familiarize themselves with the Commission's ex parte rules.

Paperwork Reduction Act Analysis. This document contains proposed new or modified information collection requirements. The Commission, as part of its continuing effort to reduce paperwork burdens, invites the general public and the Office of Management and Budget (OMB) to comment on the information collection requirements contained in this document, as required by the Paperwork Reduction Act of 1995, Public Law 104-13. In addition, pursuant to the Small Business Paperwork Relief Act of 2002, Public Law 107-198, see 44 U.S.C. 3506(c)(4), we seek specific comment on how we might further reduce the information collection burden for small business concerns with fewer than 25 employees. The Bureau does not believe that the new or modified information collection requirements we adopt here will be unduly burdensome on small businesses.

Providing Accountability Through Transparency Act: The Providing Accountability Through Transparency Act, Public Law 118-9, requires each agency, in providing notice of a rulemaking, to post online a brief plain-language summary of the proposed rule. The required summary of this Notice of Proposed Rulemaking/Further Notice of Proposed Rulemaking is available at https://www.fcc.gov/proposed-rulemakings.

Synopsis

1. This document proposes requiring Participating CMS Providers to support the display of pre-translated templates of WEA emergency alerts that would display the alert in the thirteen most commonly spoken languages in the United States. The templates would also be available in English and American Sign Language, as well as Arabic, Chinese, French, German, Haitian Creole, Hindi, Italian, Korean, Portuguese, Russian, Spanish, Tagalog, and Vietnamese. The template that would appear would map to the default language of the mobile device, as selected by the subscriber. Participating CMS Providers would be required to support the display of these templates, which would be stored in the mobile device and would trigger a template alert to appear that corresponds with the default language of the mobile device.

Discussion

Identifying Alert Types for Templates

2. We propose that Participating CMS Providers must support the use of the Alert Messages templates listed in Appendix C. As discussed in the 2023 WEA Report and Order, these templates would be pre-installed and stored on mobile devices. When an alerting authority chooses to send a template-based multilingual alert message, the WEA-capable mobile device must be able to extract and display the relevant template in the subscriber's default language, if the default language the subscriber selected is one of the thirteen most commonly spoken languages or ASL.

3. These templates represent, in the Bureau's analysis, the most commonly issued alerts. In developing the list of templates set forth in in Appendix C, the Bureau analyzed publicly available Integrated Public Alert and Warning System (IPAWS) data from 2022. Of the total 8,316 WEA messages sent in 2022, the following messages were sent: 2,325 Tornado Warnings; 2,184 Flash Flood Warnings; 309 Severe Thunderstorm Warnings; 287 Snow Squall Warnings; 202 Dust Storm Warnings; 182 Hurricane Warnings; 126 Storm Surge Warnings; 5 Extreme Wind Warnings; and 467 Test Alerts (including Required Weekly Tests and Required Monthly Tests). The Bureau identified nine alert types that we determined were among the most commonly issued alert types: Tornado Warning; Flash Flood Warning; Severe Thunderstorm Warning; Snow Squall Warning; Dust Storm Warning; Hurricane Warning; Storm Surge Warning; Extreme Wind Warning; and Test Alert. We adapted the template language for the eight weather-related alerts from templates developed by the National Weather Service (NWS). We adapted the language for the test alert from language previously used by the Federal Emergency Management Agency (FEMA).

4. The templates in Appendix C also include the most time sensitive alerts sent by alert originators. We propose templates for the following nine alert types: Earthquake Warning; Tsunami Warning; Fire Warning; Hazardous Materials Warning; Avalanche Warning; Boil Water Advisory; 911 Outage Warning; Evacuation Immediate; and Shelter in Place Warning. We believe each of these emergencies poses imminent danger to the public and time is of the essence with respect to taking any protective actions. For example, in the event of an earthquake, a ten-second advance warning is crucial for the public to take protective actions that could save lives. We adapted templates for Tsunami Warnings and Shelter in Place Warnings from templates and guidance developed by NWS. The templates for Avalanche Warnings, Fire Warnings, Hazardous Materials Warnings, and 911 Outage Warnings are adapted from research conducted by Dr. Jeannette Sutton. The template for Earthquake Warning is adapted from alerts sent by United States Geological Survey (USGS) through ShakeAlert, and the template for Boil Water Advisory was adapted from guidance created by the Centers for Disease Control and Prevention (CDC). Evacuation Immediate is adapted from alerts sent to the public during the Maui wildfires in August 2023.

5. We seek comment on the proposed templates in Appendix C. Are the alert types we have identified the most commonly used by alerting authorities and the most time sensitive? Are there alerts that are not reflected in this list and should be added? To the extent commenters believe additional alerts should be incorporated or any of the template alerts should be removed, commenters should provide data to support their viewpoint. We recognize that there are alert types that may be commonly used or that are extremely time sensitive but that are not included in Appendix C. For example, in reviewing the IPAWS data, we note that AMBER alerts are among the most commonly issued alerts, and that both AMBER alerts and active shooters alerts are time sensitive. Both of these alert types, however, typically include specific information to describe the incident. Should we require Participating CMS Providers to support static AMBER alert or active shooter alert templates? If so, what message should be associated with those templates to best ensure its effectiveness? We note that Notify NYC's approach to using template-based alerts for missing children informs the public that there is a missing child and directs the public to a website hosted by Notify NYC with a photo of the missing child along with any other pertinent details. We observe that a static AMBER alert template would likely be unable to include a link to information that is incident-specific. Should we require support for an AMBER alert and active shooter alert templates only in the event that WEA can support form-fillable templates, as discussed in further detail below? Similarly, IPAWS data shows that Local Area Emergencies, Law Enforcement Warnings, and Civil Emergency Messages are common, but often involve messages that are heavily tailored to the nature of the emergency. Can these types of alerts be effectively supported by templates, and if so, what should those templates say?

6. We seek comment on the specific text used in the templates, as well as their translations. Are the templates in Appendix C, and their corresponding translations in Appendix E, drafted in a manner that would be clearly understood by the person receiving it and prompt immediate action? If not, what should be changed? Should any changes be made to the translated templates to improve their accuracy or effectiveness? We ask that commenters offer specific edits to the extent they believe a template message should be modified in any way. As the templates show, we do not limit the templates to 90 or 360 characters, as with alerts sent through IPAWS, because the alerts will not be distributed through IPAWS but instead be stored in the mobile devices directly. We believe allowing additional character length where necessary benefits the public and alerting authorities, as the translations can be accurate without regard to technical limitations regarding the length of the template. We seek comment on this approach. What implementation challenges related to device capabilities and performance, if any, arise from this approach?

7. We seek comment on how the translations for the 13 languages should be conducted. In the 2023 WEA Report and Order, the Commission required that Participating CMS Providers' WEA-capable mobile devices support templates in Tagalog. We propose that support for multilingual WEA templates be satisfied through translations into Filipino as provided in Appendix E, and we seek comment on whether WEA-capable mobile devices can enable Filipino as the device's default language. Similarly, we propose template alerts written in simplified Chinese characters and seek comment on this approach. Should we require support for templates written with traditional Chinese characters? Should we require support for both? We also propose template alerts written in the Brazilian dialect of Portuguese. Should we support the European dialect of Portuguese? Should we support both?

8. We observe that certain templates in Appendix C direct recipients to evacuate, but evacuation may not be appropriate for all incidents. Alerting authorities may want to send alerts that direct different behavior from recipients, such as sheltering in place. For example, recommended actions to take during a wildfire may vary depending on the dangers posed by the nature of the fire. Should there be multiple alert templates for each type of time sensitive alert that provides differing instructions to the public? For example, should there be one template for fire warnings that directs the public to evacuate and a second template for fire warnings that directs the public to shelter in place? Is there a public safety benefit to creating multiple templates for a single alert type? Are there any disadvantages to creating multiple templates for a single alert type?

9. We seek comment on whether alerting authorities would benefit from one or more generic alerts on this list, such as “shelter in place” or “evacuate now.” Would a template for generic alerts that are not tied to specific types of disasters be beneficial? How should such templates be written? Would a generic template risk causing confusion, panic, or otherwise making an emergency worse? Are recipients likely to follow the instructions provided in a generic template with no context provided as to the nature of the emergency? What impact would a generic template have on milling which has been defined as “(a) Collective behavior may occur when individuals are confused and do not know what to do; (b) when individuals do not know what to do, they look to see what others are doing; (c) when an individual engages in a behavior, others wait to observe the outcome; if no negative consequences occur, observers determine the action is acceptable, increasing the likelihood of others following suit; and (d) given that most people conform to social norms relevant to their surroundings, people tend to adhere to new emergent group norms[.]”?

10. We seek comment on whether alerting authorities would benefit from an alert “all-clear” template that would inform the public the danger has passed or the alert is no longer in effect. We recognize that alerting authorities may need to send follow-up alerts to inform the public whether an alert is cancelled, such as in the case of a false alert. It could cause confusion if an initial alert is sent in several languages but an all-clear can only be sent in English. What public safety benefits would an all-clear template confer? When could this sort of template be used? Are there any drawbacks to providing alerting authorities with an all-clear template? If so, what are they? Do all-clear templates risk public confusion if it does not specify which emergency situation has concluded? If so, how should an all-clear template be technically implemented? Should we require support for an all-clear template only in the event that WEA can support form-fillable templates, as discussed in further detail below?

11. We seek comment on whether multilingual templates should be displayed on their own or accompanied by the English-language version of the alert. The Commission recognized those commenters in the record who suggest that the multilingual template-based alert be displayed together with the English-language alert that includes additional details, to promote a fuller understanding of the nature of the emergency. Is it possible to display both a template-based multilingual alert together with an alert originator-issued alert that includes event-specific information? If this is not possible, is there any benefit to displaying two templates, one in English and one in the device's default language?

12. The Commission determined based on the record received in the underlying proceeding that implementing template-based WEAs in multiple languages is feasible. The Commission directed the Bureau to seek comment on whether support for static, multilingual templates can be made available on all mobile devices. Based on the Commission's determination, we believe it is technically feasible for mobile devices to know when to display a template and which template should be displayed. Could said update be done via an over-the-air software update? Could Participating CMS Providers create a new data element that is transmitted upon choosing the template that will ensure devices display the correct templates? Are there any other ways alerting authorities can cause mobile devices to display the correct template? Would any of these ways require updates to the Commission's rules, such as the creation of new multilingual-specific event codes?

Incorporating Event-Specific Information Into Fillable Alert Templates

13. In the 2023 WEA Report and Order, the Commission directed the Bureau to seek comment on whether templates can be customizable to include event-specific information. We seek comment on whether this is feasible. In doing so, we recognize and seek to address concerns about static templates that were raised in the record of the underlying proceeding. For example, AT&T stated that static templates limit the ability “to tailor the alert messages to unique emergency events or particular wireless users.” Michigan State Police Operations Management Section (OMS) stated that static templates would reduce flexibility in “crafting regional and culturally relevant messages.” What are the benefits of including event-specific information in templates? Are there situations where a static template is more beneficial to alerting authorities? Will it take longer to send or display alerts containing event-specific information compared to static templates? If so, does the benefit of event-specific information outweigh any potential delay?

14. We seek comment on the incorporation of four fillable elements: Sending Agency, Area Affected, Expiration Time, and (if desired) a URL. The first three elements are drawn from the five mandatory Common Alerting Protocol (CAP) elements required in each WEA message: Event Type, Area Affected, Recommended Action, Expiration Time (with time zone), and Sending Agency. We observe the remaining two required CAP elements, Event Type and Recommended Action, are already included in the static alert templates we propose in Appendix C. We believe these elements will inform recipients that an alert is authoritative, and whether an alert is relevant to the recipient and for how long. Research indicates that when the public receives this information, they are much more likely to take the protective actions described in the alert. In addition, the ability to include a tappable URL will afford alerting authorities greater flexibility to include additional information directing the user to a web page of their choosing, should the alerting authority wish to include it. We seek comment on this approach, as well as the proposed fillable templates provided in Appendix D. Are these the right elements to include in alert templates to improve their flexibility and effectiveness?

15. We seek comment on the technical feasibility of this approach. How could Participating CMS Providers enable alerting authorities to include event-specific information in templates? We anticipate that, with certain changes to standards discussed below, Participating CMS Providers should be able to support the identification and transmittal of these four customizable elements, either as discrete data parameters sent to the phone or as specific locations within the text of the alert, which would be input into the templates residing on the devices. The fillable elements could then be input into the translated alert templates. We seek comment on this approach and any changes or additions to standards needed for its implementation. Are there any additional solutions that would support the delivery of fillable alerts to WEA-capable mobile devices? Is it technically possible to update all WEA-capable devices currently in use by subscribers to support fillable templates? If not, commenters should provide specific technical reasons why particular models of devices cannot be updated to support this functionality. How would fillable templates need to be implemented to avoid having negative effects on the delivery of alerts to WEA-capable devices that cannot support that capability?

16. We anticipate that fillable elements would not be translated into the displayed template language. For example, if the alert originator fills in the blanks of the template in English, a WEA-capable device would receive the alert in their chosen language with the exception of those particular fields, which would appear in the language the alert originator used—likely English. We believe that this approach would greatly reduce the burdens associated with implementing fillable alert templates and will minimize confusion caused by improper translations. For example, we believe it would be confusing if the formal names of alert originators were to be translated into other languages. Similarly we believe it may cause confusion if the names of roads, cities, counties, states, or other names indicating a specific location were to be translated into other languages. We also note that such an approach would likely require the use of machine translation, which the Commission declined to adopt based on the record in the underlying proceeding demonstrating that machine translation “is not yet ripe for use today in WEA.” We also believe that expiration times and URL addresses must not be translated. We seek comment on this approach. Do any technical difficulties arise in displaying a single alert that uses multiple character sets? Would these alerts be understandable in languages read from right to left instead of left to right, such as Arabic, or languages with different grammatical structures? Should we consider translating these elements and, if so, is there a way to reliably translate them into the languages of the templates into which they will be inserted? What would be the additional burden of translating fillable templates?

Considerations for American Sign Language

17. We seek comment on the implementation of ASL templates. The Commission requires Participating CMS Providers' WEA-capable mobile devices to provide subscribers with the ability to opt-in to receive ASL alerts. The Commission stated that “the user's voluntary selection of the option to receive WEAs in ASL [could] trigger the mobile device to download ASL templates to the device.” A consumer who opts in to receiving emergency messages in ASL will override the preferred language setting on a user's phone. Should we require Participating CMS Providers to support a minimum resolution or video quality for the ASL video templates to ensure they are easily understandable to the recipient? Because of varying WEA-capable device sizes, is there a single standard that could be adopted across different devices? Are there any other implementation factors the Bureau should consider to promote the effectiveness of ASL templates?

18. We seek comment on the illustrative videos of ASL translations, which are hyperlinked in Appendix E. We note that these videos are illustrative examples of how the alert messages may be translated into ASL. Like the other translations in Appendix E, these videos are not the final versions of ASL translations that Participating CMS Providers would be required to support. Such videos will be produced based on the feedback received in the comments to this proceeding. Are the ASL translations effective at conveying the template alert message? Are any of the alerts too long when conveyed in ASL, especially when an emergency is particularly time-sensitive? If so, how can the information be effectively conveyed to an ASL speaker in a shorter amount of time? Do the demo-only ASL videos convey the same information as the written English text? If not, what elements of the ASL videos need to be modified?

19. We seek comment on whether there are specific qualifications the video signer should have to ensure the translations are effective. Telecommunications for the Deaf and Hard of Hearing, Inc. et al. urge the Commission to produce “videos of ASL interpreters . . . using deaf talent and/or deaf interpreters that are native users of ASL to ensure that information is fluently communicated” and “achieve the widest range of comprehension for ASL users in a WEA's targeted area.” Aside from the recommendation to use deaf talent and deaf signer(s) who are native users of ASL, what other qualifications should the Commission consider in selecting a signer to present the ASL templates? For example, should we consider deaf talent who have previous experience in signing emergency alert messages? Should the video signer be a “certified deaf interpreter”? Are there any best practices or guidelines that should be used in selecting the signer for ASL video templates? Are there specific settings that should be used for filming the videos, for example, the color of the background? Are there examples of similar ASL videos that we should review for guidance? Should the same signer be used for every ASL template? Should there instead be more than one signer, and if so, why? Are there regional variations in ASL that we should take into account in preparing the final ASL videos, and, if so, how can we create the most universally accessible video for an alert to reach the widest range of ASL speakers? Are there other factors we should consider to make the ASL templates accessible to the widest possible audience?

20. We seek comment on whether videos for ASL alerts should be accompanied by the English text of the alert as indicated by the demo-only ASL videos linked in Appendix E. The demo-only videos include English captions at the bottom of the video screen. Should this formatting be retained in the final translations? Would inclusion of the English text improve the ability of the recipient to understand the alert? If so, how should the accompanying English alert be presented? Instead of the English text being captioned in the video itself, should there be an independent video crawl or block text, similar to how it is displayed for the Emergency Alert System? Would a separate captioning stream provide additional benefits to people with disabilities, such as those who use refreshable braille displays? Because the Commission required that opting to receive alerts in ASL overrides the other language defaults on a mobile device, are there issues with having the text crawl appear only in English? Should WEA-capable devices support the overlaying of additional languages onto the video of ASL alerts? If so, how should the language of the overlayed text be determined (e.g., by the device's default language) and how could it be technically implemented?

21. We seek comment on whether and how fillable templates could support ASL alerts. We note that, due to the nature of ASL video templates, it may not be possible for fillable elements to be directly inserted into ASL templates like they can for text-based alerts. Would it be technically feasible to overlay event-specific information in the device's default language over an ASL video alert message? Would an English text crawl, including the Sending Agency, Area Affected, Expiration Time, and URL, be confusing if it does not match exactly with what is being conveyed in ASL (e.g., if it is not feasible to adopt a form-fillable approach to ASL and a more fulsome alert-originator issued text crawl in English accompanies the static ASL video)? Are there any other ways event-specific information could be inserted in ASL templates without overwhelming the user with excessive or duplicate text?

Supporting Additional Languages

22. The Commission directed the Bureau to seek comment on whether to require Participating CMS Providers to support templates in additional languages, and if so, what those languages should be. The 13 languages the Commission selected were the most commonly spoken in the United States, based on Census data, and ASL was selected based on a robust record of support in the 2023 WEA FNPRM. However, the record also reflected concern that these languages would be insufficient to address alerting authorities' needs. The Attorneys General commented that WEAs should “be transmitted in all languages estimated to be spoken by at least 300,000 people in the U.S. over five years old[.]” Alternately, the Attorneys General suggest WEA messages should be translated “in any additional languages for which there are at least an estimated 25,000 individuals over the age of five years old nationwide (based on the most recent American Community Survey data) who have especially high rates of [limited English proficiency], i.e., those who report speaking English either `not at all' or `not well.' ” Other commenters suggest that a nationwide approach to selecting additional languages may not meet the needs of the local jurisdiction. Looking to another context, we observe that the United States Census Bureau uses yet another approach for determining in which languages to make its census materials available. The Census Bureau translated its materials into languages spoken by at least 2,000 limited-English-speaking households. The Census Bureau defined limited-English-speaking household as: “no member 14 years old and over speaks only English at home or speaks a language other than English at home and speaks English `very well.' ”

23. We seek comment on whether template-based alerts should be translated into additional languages and, if so, which ones? Is there a particular approach that would be best utilized to identify any additional languages? Should multiple approaches be used? Are there other factors we should consider? How do we assess what constitutes a high rate of limited English proficiency (LEP)? We observe that there are some jurisdictions with heavy concentrations of LEP communities who speak a language that may not be included in either approach proposed by the Attorneys General. To what extent should template-based alerts be considered for languages that are not currently supported by widely available mobile devices? We observe, for example, that default languages available for Android devices may differ from default languages available for iPhone devices.

24. We seek comment on whether there are any limitations on the ability for WEA-capable devices to add templates for additional languages. Can additional languages be added over the air through software and firmware patches? What devices currently on the market would be able to be updated to support additional languages?

25. We seek comment on the timeframe in which additional languages could be supported. In the 2023 WEA Report and Order, the Commission determined that 30 months was a reasonable period to implement the templates for the 13 languages, English, and ASL. The 30-month period would run from the date of publication in the Federal Register of the Bureau-level Order and associated rules addressing the implementation matters raised in this document. We believe that the implementation of templates in additional languages will likely rely on the same standards and approach to implementation as the original 13 languages, which will minimize the amount of necessary implementation time. We also believe that over-the-air software updates can enable additional languages and corresponding templates to be added to WEA-capable mobile devices. We seek comment on these beliefs, as well as specific estimates for how much additional time would be needed to implement additional languages.

26. As explained by the Commission, in order for multilingual WEA to reach the intended recipient, users of cellular devices must first set their phones to the default language of their choice. The Commission directed the Bureau to work with the Consumer and Governmental Affairs Bureau to create a consumer guide explaining how to do so, translated into the 13 languages adopted in the 2023 WEA Report and Order and ASL. We seek comment on what approaches the Bureau should take to maximize the effect and reach of the guides. What information is essential to include in such a guide? How should the guides be shared with the public? What role can alert originators play in sharing this information within their jurisdictions? Would these guides need to be tailored to specific makes and models of devices used by consumers? Should Participating CMS Providers also be developing guidance on multilingual WEA templates for their customers, and if so, what information should it include and how should it be shared?

Future Updates To Alert Types, Templates, and Languages

27. We seek comment on the process by which the Bureau might update, supplement, or otherwise require improvements for templates. Should there be a process in place for alerting authorities to request that the Bureau require new alert types or support additional languages? Should such requests be filed in the Commission's WEA docket? We anticipate that the Bureau would provide notice of such changes and an opportunity for comment prior to implementing such changes. Alternatively, should the Bureau periodically reassess the effectiveness of templates and seek comment on whether any modifications or additional languages are necessary? If so, how frequently should the Bureau make that assessment, balancing alert originator needs with the administrative burden of conducting such an analysis, as well any potential costs to Participating CMS Providers?

Assessing the Benefits and Costs

28. The Commission directed the Bureau to seek comment on the costs of supporting additional languages and to designate additional languages that should be supported via multilingual templates to the extent they would be minimally burdensome to implement. The Commission also directed the Bureau to seek comment on the feasibility of implementing customizable, form-fillable alerts. Accordingly, we seek comment on the incremental benefits and costs of supporting customizable templates, as well as the cost of implementing additional languages.

29. Benefits of Fillable Templates. We seek comment on the benefits of allowing customization of multilingual alerts by leveraging form-fillable templates. Researchers have determined that there are five essential elements for complete and effective emergency alert messages: (1) identifying the threat and its consequences; (2) guidance on what to do; (3) the location; (4) the time the public has to respond; and (5) the name of the message sender. Decades of research demonstrates the importance of these five elements for imminent and unfamiliar hazards. We believe form-fillable templates incorporating these elements would enable alerting originators to send more detailed and personalized alert messages with key information to users who will receive the translated template alert, which will help them take more effective protective actions. Therefore, we believe that considerable benefits to the safety of life and property would result from being able to take more effective protective action as a result of fillable templates. We recognize that these benefits would be particularly acute not only for speakers of the thirteen most commonly spoken languages, but also for ASL speakers, underscoring the importance of an effective way to customize alerts. We seek comment on these beliefs.

30. Cost of Implementing Fillable Templates. We anticipate that implementation of form-fillable templates would require similar costs to implementing static templates. In the 2023 WEA Report and Order, the Commission determined the costs for implementing static templates. To implement static templates, Participating CMS Providers will need to determine what changes are required with respect to storage, standards, processes, and devices. Participating CMS Providers would need to make determinations on those same issues to implement fillable templates. The implementation of static templates would also require software development, testing, and deployment, which are the same processes that would be needed to implement fillable templates. The Commission estimated that the highest cost needed to comply with the 2023 WEA Report and Order was $42.4 million, and we tentatively conclude that this cost ceiling is applicable to both static and fillable templates, regardless of which approach is adopted, due to similarities in the modifications and timelines necessary for implementation. Given the significant public safety benefits of supporting fillable templates to create more effective alerts and that the costs of implementing fillable templates are inclusive of the costs of implementing static templates, we tentatively conclude that the benefits of fillable templates instead of static templates outweigh the marginal costs. We seek comment on this conclusion. To the extent that comments disagree with this conclusion, we ask them to include specific data and timelines distinguishing the costs of fillable templates from the Commission's cost estimate. Are there other approaches to implementing multilingual templates that we should consider that are more efficient and less burdensome, including for small entities?

31. Costs of Supporting Additional Languages. In the 2023 WEA Report and Order, the Commission found that significant benefits arise from Participating CMS Providers supporting multilingual WEA. The Commission directed the Bureau to seek comment on the costs of supporting multilingual WEA alerts in additional languages beyond the ones already adopted, and directed the Bureau to designate additional languages to the extent they would be minimally burdensome to implement. For purposes of this analysis, we propose to define “minimally burdensome” as the necessary cost to add one new language to existing WEA standards, update software to add support for that language's templates, and conduct any necessary testing. We anticipate that the standards and software that can be developed to implement multilingual WEA will be designed to accommodate and streamline the addition of new languages as they are needed. We also believe that because Participating CMS Providers routinely release software updates to their network infrastructure, the costs of new multilingual templates to WEA-capable mobile devices could be minimized by adding them as part of a regularly scheduled update. As a result, we expect that the cost of implementing a single language would either be extremely low or negligible, as identified by the Commission.

32. We propose that we would find the addition of a new language to be more than minimally burdensome to the extent that its implementation would necessitate significant and atypical costs beyond those in the steps identified by the Commission and described above. We seek comment on these proposals. Do commenters anticipate, as we do, that standards and software for multilingual WEA alert templates be developed also in a way that supports and minimizes the costs of implementing additional languages? What specific changes to standards and software would be necessary to support additional languages after the languages required by the 2023 WEA Report and Order are implemented? Would any actions beyond those described above be necessary for the successful implementation of additional templates? What should the compliance timeframe be for implementing templates for additional languages to best balance the public safety interest in rapid deployment and the minimizing burdens for providers? For any costs that commenters believe would rise above “minimally burdensome,” we ask commenters to provide specific estimates along with the assumptions underlying those estimates.

Promoting Digital Equity and Inclusion

33. To the extent not already addressed, the Commission, as part of its continuing effort to advance digital equity for all, including people of color, persons with disabilities, persons who live in rural or Tribal areas, and others who are or have been historically underserved, marginalized, or adversely affected by persistent poverty or inequality, invites comment on any equity-related considerations and benefits (if any) that may be associated with the proposals and issues discussed herein. Specifically, we seek comment on how our inquiries may promote or inhibit advances in diversity, equity, inclusion, and accessibility, as well the scope of the Commission's relevant legal authority.

Procedural Matters

34. The Regulatory Flexibility Act of 1980, as amended (RFA), requires that an agency prepare a regulatory flexibility analysis for notice and comment rulemakings, unless the agency certifies that “the rule will not, if promulgated, have a significant economic impact on a substantial number of small entities.” Accordingly, we have prepared a Supplemental Regulatory Flexibility Analysis (Supplemental IRFA) concerning the possible impact of the rule and policy changes contained in this document. The Supplemental IRFA for the rules proposed in the document was prepared and can be found below and as Exhibit B of the FCC's document, DA 24-137, adopted February 15, 2024, at this link: https://docs.fcc.gov/public/attachments/DA-24-137A1.pdf. Written public comments are requested on the Supplemental IRFA. Comments must have a separate and distinct heading designating them as responses to the Supplemental IRFA and must be filed by the deadlines for comments on the first page of this document.

35. Supplemental Regulatory Flexibility Analysis. As required by the Regulatory Flexibility Act of 1980, as amended (RFA), the Bureau has prepared this Supplemental Initial Regulatory Flexibility Analysis (Supplemental IRFA) of the possible significant economic impact on small entities of the policies and rules discussed in this document to supplement the Commission's Initial and Final Regulatory Flexibility Analyses completed in the Wireless Emergency Alerts, Amendments to Part 11 of the Commissions' Rules Regarding the Emergency Alert System, PS Docket Nos. 15-91 and 15-94, Further Notice of Proposed Rulemaking, FCC 23-30, Appx. B at 53-81, paras. 1-79 (Apr. 23, 2023) (2023 WEA FNPRM) released in April 2023, and the Wireless Emergency Alerts, Amendments to Part 11 of the Commission's Rules Regarding the Emergency Alert System, PS Docket Nos. 15-91 and 15-94, Third Report and Order, FCC 23-88, Appx. B at 43-69, paras. 1-67 (Oct. 20, 2023) (2023 WEA Report and Order) released in October 2023. Written public comments are requested on this Supplemental IRFA. Comments must be identified as responses to the Supplemental IRFA and must be filed by the same deadline for comments specified on the first page of this document. The Bureau will send a copy of this document, including this Supplemental IRFA, to the Chief Counsel for Advocacy of the Small Business Administration (SBA). In addition, this document and Supplemental IRFA (or summaries thereof) will be published in the Federal Register.

36. Need for, and Objectives of, the Proposed Rules. Pursuant to the Commission's directive in the 2023 WEA Report and Order, in this document the Bureau has identified and proposed a group of the most common WEA message alerts and the most time sensitive alerts for support via template which would be pre-installed and stored on devices by Participating CMS Providers in English, the 13 most commonly spoken languages in the U.S. (Arabic, Chinese, French, German, Haitian Creole, Hindi, Italian, Korean, Portuguese, Russian, Spanish, Tagalog, and Vietnamese), and ASL. These templates, which would be displayed at the option of the alert originator, will enable alerting authorities to reach communities during emergency situations that would otherwise not understand an alert by providing WEA alerts and potentially life-saving emergency information in one of the languages identified above. Millions of people living in the United States do not primarily speak (and likely do not understand) English or Spanish, and an estimated one-in-four U.S. adults have some form of disability. Therefore, the accurate translation of emergency information is critical for alerting authorities to have confidence in the emergency alert information in the transmitted language, and that the alert will be understood by the target community.

37. Consistent with and in furtherance of the Commission's priority that WEA as an effective live-saving tool be accessible to as many people as possible, in this document the Bureau seeks comment on whether Participating Commercial Mobile Service (CMS) Providers should be required to support templates in additional languages, and how additional languages can be selected for WEA support. At the Commission's direction, the Bureau also seeks comment on the costs to support WEA alerts in languages beyond those already required, and seeks to designate additional languages that are minimally burdensome to implement. The scope of the costs included in the Bureau's proposed definition of “minimally burdensome” encompass the costs to add one new language to current WEA standards, software updates to add support for the language's template, and necessary testing. The Bureau also proposes form-fillable templates that would include emergency specific information and seeks comment on the technical implementation of the templates. The Bureau also seeks comment on how to best implement ASL templates.

38. Legal Basis. The proposed action is authorized under sections 1, 2, 4(i), 4(n), 301, 303(b), 303(e), 303(g), 303(j), 303(r), 307, 309, 316, 403, and 706 of the Communications Act of 1934, as amended, 47 U.S.C. 151, 152, 154(i), 154(n), 301, 303(b), 303(e), 303(g), 303(j), 303(r), 307, 309, 316, 403, 544(g), and 606; the Warning Alert and Response Network (WARN) Act, WARN Act §§ 602(a), (b), (c), (f), 603, 604, and 606, 47 U.S.C. 1201(a),(b),(c), (f), 1203, 1204 and 1206, the Wireless Emergency Alerts, Amendments to Part 11 of the Commission's Rules Regarding the Emergency Alert System, PS Docket Nos. 15-91 and 15-94, Third Report and Order, FCC 23-88 (2023), and 47 CFR 0.5(c), 0.191(e), 0.201, 0.204, and 0.392.

39. Description and Estimate of the Number of Small Entities to Which the Proposed Rules Will Apply. The RFA directs agencies to provide a description and, where feasible, an estimate of the number of small entities that may be affected by the proposed rules and policies, adopted. The RFA generally defines the term “small entity” as having the same meaning as the terms “small business,” “small organization,” and “small governmental jurisdiction.” In addition, the term “small business” has the same meaning as the term “small business concern” under the Small Business Act.” A “small business concern” is one which: (1) is independently owned and operated; (2) is not dominant in its field of operation; and (3) satisfies any additional criteria established by the SBA.

40. As noted above, Regulatory Flexibility Analyses were incorporated into the 2023 WEA FNPRM and the 2023 WEA Report and Order. In those analyses, the Commission described in detail the small entities that might be significantly affected. Accordingly, in this document, for the Supplemental IRFA, we adopt by reference the descriptions and estimates of the number of small entities from the previous Regulatory Flexibility Analyses in the 2023 WEA FNPRM and the 2023 WEA Report and Order.

41. Description of Projected Reporting, Recordkeeping, and Other Compliance Requirements for Small Entities. The Bureau expects the actions proposed in this document with respect to the creation of WEA templates in English, the 13 most commonly spoken languages in the U.S., and ASL will not impose additional reporting and recordkeeping on small entities who are Participating CMS Providers voluntarily participating in WEA. We note that the obligations regarding these templates were detailed and adopted by the Commission in the 2023 WEA Report and Order. This document serves to develop the parameters for how these obligations must be implemented. The Bureau proposes a list of specific multilingual templates representing the most commonly utilized and the most time sensitive alert types, the costs of which are included in the 2023 WEA Report and Order. The proposals and discussions in the document include potential compliance requirements for small and other Participating CMS Providers to support template alerts written in other languages; to support minimum video resolution or video quality for ASL video templates; or the inclusion of multiple templates for a single type of alert. This document also seeks comment on whether Participating CMS Providers should be required to support static or fillable templates, the costs of which the Commission has already identified in the 2023 WEA Report and Order. The Bureau's discussion of this potential requirement included the feasibility of including event-specific information in templates; the incorporation of Sending Agency, Area Affected, Expiration Time and a URL as the fillable template elements; and whether, and if so, how fillable templates can be used for ASL alerts.

42. The Commission directed the Bureau to seek comment on the costs of supporting multilingual WEA alerts in additional languages beyond the ones already adopted, and directed the Bureau to designate additional languages to the extent they would be minimally burdensome to implement. We discuss the Bureau's proposed definition of “minimally burdensome” above in the Supplemental IRFA, and the scope of the costs included in the definition for purposes of this analysis. The three elements we have identified to add one additional new language are: adding a new language to current WEA standards; updating software to add support for the language's template; and testing. We expect very minimal or negligible implementation costs for several reasons. The Bureau believes the standards and software developed for multilingual WEA will be designed to accommodate and streamline the future addition of new languages. Further, by implementing any additional new language templates as a regularly scheduled update with routinely released software updates, the costs for small and other Participating CMS Providers can be minimized.

43. In the document, we note that in the 2023 WEA Report and Order the Commission estimated $42.4 million as the maximum cost ceiling for implementation of the templates in English, the 13 most commonly spoken languages in the U.S., and ASL. This estimate included the costs for both static and fillable templates which we address in the document. Regarding compliance costs for small entities, we further note that Participating CMS Providers will not be responsible for the costs of translating templates and will only be required to support additional template languages if the costs for such additions will be minimally burdensome. For these reasons, we expect the proposed actions in the document, if adopted, to be a minimal burden for small entities and we do not expect that small entities will have to hire professionals to implement any requirements that may be adopted.

44. To help the Bureau more fully evaluate the cost of compliance for small entities should its proposals be adopted, in this document, we request comments on the cost implications of our proposals and ask whether there are more efficient and less burdensome alternatives (including cost estimates) for the Bureau to consider. We expect the information we received in comments including cost and benefit analyses, to help the Bureau identify and evaluate relevant matters for small entities, including compliance costs and other burdens that may result from the proposals and inquiries we make in the document.

45. Steps Taken to Minimize the Significant Economic Impact on Small Entities, and Significant Alternatives Considered. The RFA requires an agency to describe any significant, specifically small businesses, alternatives that it has considered in reaching its proposed approach, which may include the following four alternatives (among others): “(1) the establishment of differing compliance or reporting requirements or timetables that take into account the resources available to small entities; (2) the clarification, consolidation, or simplification of compliance and reporting requirements under the rule for such small entities; (3) the use of performance rather than design standards; and (4) an exemption from coverage of the rule, or any part thereof, for such small entities.”

46. The Bureau is mindful that in meeting its duty to develop the nation's emergency preparedness by making WEA more accessible, small entities may incur costs. In the preceding paragraph, we note that the costs for template development and implementation addressed in this document for the already designated languages were included in the costs for Participating CMS Providers associated with implementing the 2023 WEA Report and Order. We believe that because the Commission is responsible for the costs of translating templates, a significant step has been taken to help reduce the impact on small entities. The Bureau's development of the proposed templates in Appendices C and D, whether to require additional alerts such as AMBER alerts (a time-sensitive, commonly issued alert), or to require time-sensitive active shooter alerts are alternatives the Bureau has considered. The Bureau seeks comment on these alternatives as well as whether to require support for an AMBER alert or active shooter alert template only in the event that WEA can support form-fillable templates. Other alternatives we considered and seek comment on in the document are whether the required templates should include multiple alert templates for each type of time-sensitive alert directing different actions, such as to shelter in place or to evacuate; a template for generic alerts that are not tied to specific types of disasters; and an all-clear template. The Bureau also considered whether multilingual templates should be displayed in only the designated language, or whether the alert should contain a version of the alert in English. Further, for ASL alerts, in assessing whether and how templates could work, we inquired whether it is technically feasible to overlay event-specific information in a device's default language over an ASL video alert message.

47. Participating CMS Providers are only required to support additional languages if the costs of the addition will be minimally burdensome. This should significantly minimize the impact of any additional language template support that may subsequently be required. Any language deemed beyond minimally burdensome—which the Bureau proposes to define as imposing significant and atypical costs beyond those discussed in the 2023 WEA Report and Order and defined in this document—would not be required to be supported under this approach. Alternatives the Bureau considered in evaluating additional language template requirements include whether a single approach or multiple approaches should be used to determine additional template languages, and whether there are any limitations on the ability of additional language templates to be added to WEA-capable devices. Additionally, we discussed and seek comment on whether there is a need for a process for alerting authorities to request that the Bureau require new alert types, or support of additional template languages, where such requests would be made by a filing in the Commission's WEA docket, and subject to notice and comment. Alternatively, we asked whether the Bureau should periodically review the effectiveness of the existing alert templates, and seek comment on whether any changes or new languages are needed.

48. Federal Rules that May Duplicate, Overlap, or Conflict with the Proposed Rules. None.

Appendix C

The English proposed static alert templates are below; the full text of this document is available here: https://docs.fcc.gov/public/attachments/DA-24-137A1.pdf; and also separately available here: https://www.fcc.gov/sites/default/files/Proposed-English-Static-Alert-Templates.pdf.

Alert type | Alert template
MOST COMMONLY ISSUED ALERTS
Tornado Warning | TORNADO EMERGENCY. Tornado spotted in this area. This is a life-threatening situation. Take shelter now in a basement or an interior room on the lowest floor of a sturdy building. If you are outdoors, in a mobile home, or in a vehicle, move to the closest substantial shelter and protect yourself from flying debris. Check media.
Flash Flood Warning | A FLASH FLOOD EMERGENCY in effect for this area. This is an extremely dangerous and life-threatening situation. Do not attempt to travel unless you are fleeing an area subject to flooding or under an evacuation order.
Severe Thunderstorm Warning | SEVERE THUNDERSTORM WARNING in effect for this area for DESTRUCTIVE 80 mile per hour winds. Take shelter in a sturdy building, away from windows. Flying debris may be deadly to those caught without shelter.
Snow Squall Warning | SNOW SQUALL WARNING in effect for this area. Slow down or delay travel! Be ready for a sudden drop to near zero visibility and icy roads in heavy snow.
Dust Storm Warning | DUST STORM WARNING for this area. Be ready for sudden drop to zero visibility. Pull Aside, Stay Alive! When visibility drops, pull far off the road and put your vehicle in park. Turn the lights off and keep your foot off the brake. Infants, the elderly and those with respiratory issues urged to take precautions.
Hurricane Warning | A HURRICANE WARNING is in effect for this area for dangerous and damaging winds. This warning is issued up to 36 hours before hazardous conditions begin. Urgently complete efforts to protect life and property. Have food, water, cash, fuel, and medications for 3+ days. FOLLOW INSTRUCTIONS FROM LOCAL OFFICIALS.
Storm Surge Warning | A STORM SURGE WARNING is in effect for this area for the danger of life-threatening flooding. This warning is issued up to 36 hours before hazardous conditions begin. Urgently complete efforts to protect life and property. Follow evacuation orders if given for this area to avoid drowning or being cut off from emergency services.
Extreme Wind Warning | An EXTREME WIND WARNING is in effect for this area for the immediate danger of life-threatening winds. Take cover NOW in an interior room of a sturdy building, away from windows. Protect your head from flying debris. Do NOT go out in the calm of the hurricane eye! Winds will quickly become dangerous again.
Test Alert | THIS IS A TEST of the National Wireless Emergency Alert System. The purpose is to maintain and improve alert and warning capabilities at the federal, state, local, Tribal and territorial levels and to evaluate the nation's public alert and warning capabilities. No action is required by the public.
MOST TIME-SENSITIVE ALERTS
Tsunami Warning | TSUNAMI WARNING. A series of powerful waves and strong currents may impact coasts near you. You are in danger. Get away from coastal waters. Move to high ground or inland now. Keep away from the coast until local officials say it is safe to return.
Earthquake Warning | EARTHQUAKE DETECTED! Drop, Cover, Hold On. Protect Yourself.
Boil Water Advisory | BOIL WATER ALERT issued for your area. Water in your community can make you sick. Use bottled water if available. Do not drink, cook with, brush your teeth with, or clean your home with tap or filtered water until you boil it. Bring water to a full rolling boil for THREE MINUTES. Let water cool before use. Do not use ice made with water that has not been boiled. If you use formula to feed your child, use ready-to-use formula. Make sure pets do not drink water that has not been boiled. Check local media.
911 Outage Alert | 911 OUTAGE ALERT in this area. Please contact police, fire, medical, or other emergency services directly at their local phone numbers in case of emergency. If you dial 911, you may not get help.
Avalanche Warning | AVALANCHE WARNING in this area. Unstable, fast-moving snow can happen quickly, causing injury or death and can block roads and damage property in affected areas. LEAVE this area. DO NOT return to area after evacuation until directed by local officials. Travel in avalanche terrain is not recommended. Avalanches may run long distances.
Fire Warning | FIRE WARNING in this area. Evacuate your family and pets now, do not delay. Visibility in area will be reduced and roads can become blocked. If you do not leave now, you could be trapped, injured, or killed. Expect reduced visibility, heavy smoke, and difficulty breathing. Be careful when driving. Watch for public safety personnel operating in the area and follow their instructions.
Hazardous Materials Warning | A HAZARDOUS MATERIALS release has occurred in your area. Exposure may cause difficulty breathing, loss of coordination, burning sensation in eyes, nose, throat, or lungs, nausea, and possibly death. LEAVE this area. IF DRIVING to evacuate area, keep car windows and vents closed. DO NOT return to area after evacuation until directed by local officials.
Evacuation Immediate | EVACUATE IMMEDIATELY. Evacuation order issued in your area. Evacuate your family and pets now, do not delay. Watch for public safety personnel operating in the area and follow their instructions.
Shelter in Place Warning | SHELTER IN PLACE WARNING issued in your area. Danger in your area. Go inside to an interior room, close the doors and windows, and stay where you are. Check local media. Stay alert and use caution.

Appendix D

The English version of the proposed form-fillable alert templates are available below; the full text of this document is available here: https://docs.fcc.gov/public/attachments/DA-24-137A1.pdf; and also separately available here: https://www.fcc.gov/sites/default/files/Proposed-English-Form-Fillable-Alert-Templates.pdf.

Alert type | Alert template
MOST COMMONLY ISSUED ALERTS
Tornado Warning | [SENDING AGENCY]: TORNADO EMERGENCY in [LOCATION] until [TIME]. Tornado spotted in this area. This is a life-threatening situation.. Take shelter now in a basement or an interior room on the lowest floor of a sturdy building. If you are outdoors, in a mobile home, or in a vehicle, move to the closest substantial shelter and protect yourself from flying debris. Check media. [URL]
Flash Flood Warning | [SENDING AGENCY]: A FLASH FLOOD EMERGENCY is in effect for [LOCATION] until [TIME]. This is an extremely dangerous and life-threatening situation. Do not attempt to travel unless you are fleeing an area subject to flooding or under an evacuation order. [URL]
Severe Thunderstorm Warning | [SENDING AGENCY]: SEVERE THUNDERSTORM WARNING in effect for [LOCATION] until [TIME] for DESTRUCTIVE 80 mile per hour winds. Take shelter in a sturdy building, away from windows. Flying debris may be deadly to those caught without shelter. [URL]
Snow Squall Warning | [SENDING AGENCY]: Snow Squall Warning for [LOCATION] until [TIME]. Slow down or delay travel! Be ready for a sudden drop to near zero visibility and icy roads in heavy snow. [URL]
Dust Storm Warning | [SENDING AGENCY]: DUST STORM WARNING for [LOCATION] until [TIME]. Be ready for sudden drop to zero visibility. Pull Aside, Stay Alive! When visibility drops, pull far off the road and put your vehicle in park. Turn the lights off and keep your foot off the brake. Infants, the elderly and those with respiratory issues urged to take precautions. [URL]
Hurricane Warning | [SENDING AGENCY]: A HURRICANE WARNING is in effect for [LOCATION] for dangerous and damaging winds in effect until [TIME]. This warning is issued up to 36 hours before hazardous conditions begin. Urgently complete efforts to protect life and property. Have food, water, cash, fuel, and medications for 3+ days. FOLLOW INSTRUCTIONS FROM LOCAL OFFICIALS. [URL]
Storm Surge Warning | [SENDING AGENCY]: A STORM SURGE WARNING is in effect for [LOCATION] for the danger of life-threatening flooding until [TIME]. This warning is issued up to 36 hours before hazardous conditions begin. Urgently complete efforts to protect life and property. Follow evacuation orders if given for this area to avoid drowning or being cut off from emergency services. [URL]
Extreme Wind Warning | [SENDING AGENCY]: An EXTREME WIND WARNING is in effect for [LOCATION] for the immediate danger of life-threatening winds until [TIME]. Take cover NOW in an interior room of a sturdy building, away from windows. Protect your head from flying debris. Do NOT go out in the calm of the hurricane eye! Winds will quickly become dangerous again. [URL]
Test Alert | THIS IS A TEST of the National Wireless Emergency Alert System sent by [SENDING AGENCY]. The purpose is to maintain and improve alert and warning capabilities at the federal, state, local, Tribal and territorial levels and to evaluate the nation's public alert and warning capabilities. No action is required by the public. [URL]
MOST TIME-SENSITIVE ALERTS
Tsunami Warning | [SENDING AGENCY]: TSUNAMI WARNING for [LOCATION] is in effect until [TIME]. A series of powerful waves and strong currents may impact coasts near you. You are in danger. Get away from coastal waters. Move to high ground or inland now. Keep away from the coast until local officials say it is safe to return. [URL]
Earthquake Warning | EARTHQUAKE DETECTED! Drop, Cover, Hold On. Protect Yourself. [SENDING AGENCY] [URL]
Boil Water Advisory | [SENDING AGENCY]: BOIL WATER ALERT issued for [LOCATION] is in effect until [TIME]. Water in your community can make you sick. Use bottled water if available. Do not drink, cook with, brush your teeth with, or clean your home with tap or filtered water until you boil it. Bring water to a full rolling boil for THREE MINUTES. Let water cool before use. Do not use ice made with water that has not been boiled. If you use formula to feed your child, use ready-to-use formula. Make sure pets do not drink water that has not been boiled. [URL]
911 Outage Alert | [SENDING AGENCY]: 911 OUTAGE ALERT in [LOCATION] until [TIME]. Please contact police, fire, medical, or other emergency services directly at their local phone numbers in case of emergency. If you dial 911, you may not get help. [URL]
Avalanche Warning | [SENDING AGENCY]: AVALANCHE WARNING in effect in [LOCATION] is in effect until [TIME]. Unstable, fast-moving snow can happen quickly, causing injury or death and can block roads and damage property in affected areas. LEAVE areas near [LOCATION]. DO NOT return to area after evacuation until directed by local officials. Travel in avalanche terrain is not recommended. Avalanches may run long distances. [URL]
Fire Warning | [SENDING AGENCY] FIRE WARNING in [LOCATION] is in in effect until [TIME]. Evacuate your family and pets now, do not delay. Visibility in area will be reduced and roads can become blocked. If you do not leave now, you could be trapped, injured, or killed. LEAVE areas near [LOCATION]. Expect reduced visibility, heavy smoke, and difficulty breathing. Be careful when driving. Watch for public safety personnel operating in the area and follow their instructions. [URL]
Hazardous Materials Warning | [SENDING AGENCY]: A HAZARDOUS MATERIALS release has occurred at [TIME] in [LOCATION]. Exposure may cause difficulty breathing, loss of coordination, burning sensation in eyes, nose, throat, or lungs, nausea, and possibly death. LEAVE areas near [LOCATION]. IF DRIVING to evacuate area, keep car windows and vents closed. DO NOT return to area after evacuation unless directed by local officials. [URL]
Evacuation Immediate | [SENDING AGENCY] has issued an evacuation order for [LOCATION] in effect until [TIME]. Evacuate your family and pets now, do not delay. Watch for public safety personnel operating in the area and follow their instructions. [URL]
Shelter in Place Warning | [SENDING AGENCY] issued a shelter in place warning for [LOCATION] is in effect until [TIME]. Danger in your area. Go inside to an interior room, close the doors and windows, and stay where you are. Stay alert and use caution. [URL]

Appendix E

American Sign Language Translation

The translations for American Sign Language are located here: https://www.fcc.gov/wireless-emergency-alert-templates-american-sign-language-asl.

We note that these videos are illustrative examples of how the alert messages may be translated into ASL. These videos are not the final videos of ASL translations that Participating CMS Providers would be required to support, and they should not be used to convey emergency information or for any other purpose.

49. The translations for the thirteen most commonly spoken languages in the United States, aside from English and ASL, are located below; the full text of this document is available here: https://docs.fcc.gov/public/attachments/DA-24-137A1.pdf; and also separately available here: https://www.fcc.gov/sites/default/files/Proposed-WEA-Template-Translations.pdf.

BILLING CODE 6712-01-P

BILLING CODE 6712-01-C

FRENCH TRANSLATION

STATIC ALERT TEMPLATES

Alert type | Alert template
MOST COMMONLY ISSUED ALERTS
Tornado Warning | AVIS DE TORNADE. Une tornade a été repérée dans cette zone. La vie des personnes concernées est en danger. Abritez-vous dès maintenant dans un sous-sol ou dans une pièce intérieure au niveau le plus bas d'un bâtiment robuste. Si vous vous trouvez à l'extérieur, dans une maison mobile ou dans un véhicule, rejoignez l'abri approprié le plus proche et protégez-vous des débris volants. Consultez les médias.
Flash Flood Warning | Un AVIS D'INONDATION SOUDAINE est en vigueur pour cette zone. Il s'agit d'une situation extrêmement dangereuse et potentiellement mortelle. Évitez de vous déplacer à moins que vous ne quittiez une zone inondable ou que vous ne fassiez l'objet d'un ordre d'évacuation.
Severe Thunderstorm Warning | Un AVIS D'ORAGE VIOLENT est en vigueur pour cette zone avec des vents DESTRUCTEURS de 130 km/heure. Mettez-vous à l'abri dans un bâtiment robuste, loin des fenêtres. Les débris volants peuvent être mortels pour les personnes n'ayant pu trouver un abri.
Snow Squall Warning | Un AVIS DE BOURRASQUE DE NEIGE est en vigueur pour cette zone. Ralentissez ou reportez vos déplacements ! Préparez-vous à une chute soudaine de la visibilité, qui pourrait devenir presque nulle, et à des routes verglacées en cas de neige abondante.
Dust Storm Warning | Un AVIS DE TEMPÊTE DE POUSSIÈRE est en vigueur pour cette zone. Préparez-vous à une baisse soudaine de la visibilité, qui pourrait devenir nulle. Arrêtez-vous, restez en vie ! Lorsque la visibilité diminue, quittez la route et mettez votre véhicule en position de stationnement. Éteignez les phares et n'appuyez pas sur la pédale de frein. Les nourrissons, les personnes âgées et les personnes souffrant de problèmes respiratoires sont invités à prendre des précautions.
Hurricane Warning | Un AVIS D'OURAGAN est en vigueur pour cette zone en raison de vents dangereux et destructeurs. Cet avis est émis au moins 36 heures avant le début des conditions dangereuses. Prenez de toute urgence des mesures pour protéger votre vie et vos biens. Prévoyez suffisamment de nourriture, d'eau, d'argent, de carburant et de médicaments pour 3 jours ou plus. SUIVEZ LES INSTRUCTIONS DES AUTORITÉS LOCALES.
Storm Surge Warning | Un AVIS D'ONDES DE TEMPÊTE est en vigueur pour cette zone en raison du risque d'inondations potentiellement mortelles. Cet avis est émis au moins 36 heures avant le début des conditions dangereuses. Prenez de toute urgence des mesures pour protéger votre vie et vos biens. Suivez les ordres d'évacuation donnés pour cette zone afin d'éviter de vous noyer ou d'être coupé des services d'urgence.
Extreme Wind Warning | Un AVIS DE VENT EXTRÊME est en vigueur pour cette zone en raison du danger immédiat de vents potentiellement mortels. Mettez-vous à l'abri dès MAINTENANT dans une pièce intérieure d'un bâtiment robuste, loin des fenêtres. Protégez votre tête des débris volants. Ne sortez PAS dans le calme de l'œil du cyclone ! Les vents sont susceptibles de redevenir dangereux rapidement.
Test Alert | CECI EST UN TEST du Système national d'alertes d'urgence sans fil. L'objectif est de maintenir et d'améliorer les capacités d'alerte et d'avertissement aux niveaux fédéral, étatique, local, tribal et territorial et d'évaluer les capacités d'alerte et d'avertissement du pays. Aucune action n'est requise de la part du public.
MOST TIME-SENSITIVE ALERTS
Tsunami Warning | AVIS DE TSUNAMI. Une série de vagues puissantes et de forts courants peuvent déferler sur les côtes situées près de chez vous. Vous êtes en danger. Éloignez-vous des eaux côtières. Réfugiez-vous sur les hauteurs ou à l'intérieur des terres dès maintenant. Restez éloigné des côtes jusqu'à ce que les autorités locales vous permettent de rentrer chez vos en toute sécurité.
Earthquake Warning | TREMBLEMENT DE TERRE DÉTECTÉ ! Baissez-vous, couvrez-vous et tenez-vous bien. Protégez-vous.
Boil Water Advisory | Un AVIS DE FAIRE BOUILLIR L'EAU a été émis pour votre zone. L'eau de votre communauté peut vous rendre malade. Utilisez de l'eau en bouteille si possible. Vous ne devez pas boire, cuisiner, vous brosser les dents et nettoyer votre maison avec de l'eau du robinet ou de l'eau filtrée sans l'avoir faite bouillir. Portez l'eau à ébullition pendant TROIS MINUTES. Laissez l'eau refroidir avant de l'utiliser. N'utilisez pas de glace produite avec de l'eau non bouillie. Si vous utilisez du lait maternisé pour nourrir votre enfant, utilisez du lait maternisé prêt à l'emploi. Veillez à ce que les animaux domestiques ne boivent pas d'eau non bouillie au préalable. Consultez les médias locaux.
911 Outage Alert | AVIS D'INTERRUPTION DU 911 dans cette zone. En cas d'urgence, veuillez contacter la police, les pompiers, les services médicaux ou tout autre service d'urgence directement en appelant leur numéro de téléphone local. Si vous composez le 911, vous risquez de ne pas obtenir d'aide.
Avalanche Warning | AVIS D'AVALANCHE dans cette zone. Une neige instable, qui atteint des vitesses élevées en mouvement, peut se produire rapidement et entraîner des blessures ou la mort, bloquer les routes et causer des dégâts matériels dans les zones touchées. QUITTEZ cette zone. NE retournez PAS dans les zones impactées par l'ordre d'évacuation à moins d'avoir reçu la permission des autorités locales. Les déplacements en terrain avalancheux sont déconseillés. Les avalanches peuvent couvrir de longues distances.
Fire Warning | AVIS D'INCENDIE dans cette zone. Évacuez votre famille et vos animaux de compagnie dès maintenant, sans plus attendre. La visibilité dans la région va diminuer et les routes risquent d'être bloquées. Si vous ne partez pas maintenant, vous risquez d'être bloqué, blessé ou tué. Attendez-vous à une visibilité réduite, à une forte fumée et à des difficultés respiratoires. Soyez prudent en conduisant. Faites attention au personnel des services de sécurité publique opérant dans la zone et suivez leurs instructions.
Hazardous Materials Warning | Un déversement de MATIÈRES DANGEREUSES s'est produit dans votre zone. Le contact avec ces matières peut entraîner des difficultés respiratoires, une perte de coordination, une sensation de brûlure dans les yeux, le nez, la gorge ou les poumons, des nausées et, éventuellement, la mort. QUITTEZ cette zone. SI VOUS CONDUISEZ pour évacuer la zone, gardez les fenêtres et les bouches d'aération de la voiture fermées. NE retournez PAS dans la zone après évacuation à moins d'avoir reçu la permission des autorités locales.
Evacuation Immediate | ÉVACUATION IMMÉDIATE. Un ordre d'évacuation a été émis pour votre zone. Évacuez votre famille et vos animaux de compagnie dès maintenant, ne tardez pas. Faites attention au personnel des services de sécurité publique opérant dans la zone et suivez leurs instructions.
Shelter in Place Warning | Un AVIS D'ABRI SUR PLACE a été émis pour votre zone. Il existe un danger dans votre zone. Réfugiez-vous dans une pièce située à l'intérieur, fermez les portes et les fenêtres et restez là où vous vous trouvez. Consultez les médias locaux. Restez vigilant et faites preuve de prudence.

FORM-FILLABLE ALERT TEMPLATES

Alert type | Alert template
MOST COMMONLY ISSUED ALERTS
Tornado Warning | [SENDING AGENCY]: AVIS DE TORNADE pour [LOCATION] jusqu'à [TIME]. Une tornade a été repérée dans cette zone. La vie des personnes concernées est en danger. Abritez-vous dès maintenant dans un sous-sol ou dans une pièce située à l'intérieure au niveau le plus bas d'un bâtiment robuste. Si vous vous trouvez à l'extérieur, dans une maison mobile ou dans un véhicule, rejoignez l'abri approprié le plus proche et protégez-vous des débris volants. Consultez les médias. [URL]
Flash Flood Warning | [SENDING AGENCY]: un AVIS D'INONDATION SOUDAINE est en vigueur pour [LOCATION] jusqu'à [TIME]. Il s'agit d'une situation extrêmement dangereuse et potentiellement mortelle. Évitez de vous déplacer à moins que vous ne quittiez une zone inondable ou que vous ne fassiez l'objet d'un ordre d'évacuation. [URL]
Severe Thunderstorm Warning | [SENDING AGENCY]: un AVIS D'ORAGE VIOLENT est en vigueur pour [LOCATION] jusqu'à [TIME] avec des vents DESTRUCTEURS de 130 km/heure. Mettez-vous à l'abri dans un bâtiment robuste, loin des fenêtres. Les débris volants peuvent être mortels pour les personnes n'ayant pu trouver un abri. [URL]
Snow Squall Warning | [SENDING AGENCY]: un avis de bourrasque de neige est en vigueur pour [LOCATION] jusqu'à [TIME]. Ralentissez ou reportez vos déplacements!Préparez-vous à une chute soudaine de la visibilité, qui pourrait devenir presque nulle, et à des routes verglacées en cas de neige abondante. [URL]
Dust Storm Warning | [SENDING AGENCY]: AVIS DE TEMPÊTE DE POUSSIÈRE pour [LOCATION] jusqu'à [TIME]. Préparez-vous à une baisse soudaine de la visibilité qui pourrait devenir presque nulle. Arrêtez-vous, restez en vie!Lorsque la visibilité diminue, quittez la route et mettez votre véhicule en position de stationnement. Éteignez les phares et n'appuyez pas sur la pédale de frein. Les nourrissons, les personnes âgées et les personnes souffrant de problèmes respiratoires sont invités à prendre des précautions. [URL]
Hurricane Warning | [SENDING AGENCY]: un AVIS D'OURAGAN est en vigueur pour [LOCATION] en raison de vents dangereux et destructeurs jusqu'à [TIME]. Cet avis est émis au moins 36 heures avant le début des conditions dangereuses. Prenez de toute urgence des mesures pour protéger votre vie et vos biens. Prévoyez suffisamment de nourriture, d'eau, d'argent, de carburant et de médicaments pour 3 jours ou plus. SUIVEZ LES INSTRUCTIONS DES AUTORITÉS LOCALES. [URL]
Storm Surge Warning | [SENDING AGENCY]: un AVIS D'ONDES DE TEMPÊTE est en vigueur pour [LOCATION] jusqu'à [TIME] en raison du risque d'inondations potentiellement mortelles. Cet avis est émis au moins 36 heures avant le début des conditions dangereuses. Prenez de toute urgence des mesures pour protéger votre vie et vos biens. Suivez les ordres d'évacuation donnés pour cette zone afin d'éviter de vous noyer ou d'être coupé des services d'urgence. [URL]
Extreme Wind Warning | [SENDING AGENCY]: un AVIS DE VENT EXTRÊME est en vigueur pour [LOCATION] en raison du danger immédiat de vents potentiellement mortels jusqu'à [TIME]. Mettez-vous à l'abri MAINTENANT dans une pièce située à l'intérieure d'un bâtiment robuste, loin des fenêtres. Protégez votre tête des débris volants. Ne sortez PAS dans le calme de l'œil du cyclone! Les vents sont susceptibles de redevenir dangereux rapidement. [URL]
Test Alert | CECI EST UN TEST du Système national d'alertes d'urgence sans fil envoyé par [SENDING AGENCY]. L'objectif est de maintenir et d'améliorer les capacités d'alerte et d'avertissement aux niveaux fédéral, étatique, local, tribal et territorial et d'évaluer les capacités d'alerte et d'avertissement du pays. Aucune action n'est requise de la part du public. [URL]
MOST TIME-SENSITIVE ALERTS
Tsunami Warning | [SENDING AGENCY]: un AVIS DE TSUNAMI pour [LOCATION] est en vigueur jusqu'à [TIME]. Une série de vagues puissantes et de forts courants peuvent déferler sur les côtes situées près de chez vous. Vous êtes en danger. Éloignez-vous des eaux côtières. Réfugiez-vous sur les hauteurs ou à l'intérieur des terres dès maintenant. Éloignez-vous des côtes jusqu'à ce que les autorités locales vous permettent de rentrer chez vos en toute sécurité. [URL]
Earthquake Warning | TREMBLEMENT DE TERRE DÉTECTÉ!Baissez-vous, couvrez-vous et tenez-vous bien. Protégez-vous. [SENDING AGENCY] [URL]
Boil Water Advisory | [SENDING AGENCY]: un AVIS DE FAIRE BOUILLIR L'EAU a été émis pour [LOCATION] jusqu'à [TIME]. L'eau de votre communauté peut vous rendre malade. Utilisez de l'eau en bouteille si possible. Vous ne devez pas boire, cuisiner, vous brosser les dents et nettoyer votre maison avec de l'eau du robinet ou de l'eau filtrée sans l'avoir faite bouillir. Portez l'eau à ébullition pendant TROIS MINUTES. Laissez l'eau refroidir avant de l'utiliser. N'utilisez pas de glace produite avec de l'eau non bouillie. Si vous utilisez du lait maternisé pour nourrir votre enfant, utilisez du lait maternisé prêt à l'emploi. Veillez à ce que les animaux domestiques ne boivent pas d'eau non bouillie au préalable. Consultez les médias locaux. [URL]
911 Outage Alert | [SENDING AGENCY]: AVIS D'INTERRUPTION DU 911 pour [LOCATION] jusqu'à [TIME]. En cas d'urgence, veuillez contacter la police, les pompiers, les services médicaux ou tout autre service d'urgence directement en appelant leur numéro de téléphone local. Si vous composez le 911, vous risquez de ne pas obtenir d'aide. [URL]
Avalanche Warning | [SENDING AGENCY]: un AVIS D'AVALANCHE pour [LOCATION] est en vigueur jusqu'à [TIME]. Une neige instable, qui atteint des vitesses élevées en mouvement, peut se produire rapidement et entraîner des blessures ou la mort, bloquer les routes et causer des dégâts matériels dans les zones touchées. QUITTEZ les zones situées à proximité de [LOCATION]. NE retournez PAS dans les zone impactées par l'ordre d'évacuation à moins d'avoir reçu la permission des autorités locales. Les déplacements en terrain avalancheux sont déconseillés. Les avalanches peuvent couvrir de longues distances. [URL]
Fire Warning | UN AVIS D'INCENDIE DE [SENDING AGENCY] pour [LOCATION] est en vigueur jusqu'à [TIME]. Évacuez votre famille et vos animaux de compagnie dès maintenant, sans plus attendre. La visibilité dans la région va diminuer et les routes risquent d'être bloquées. Si vous ne partez pas maintenant, vous risquez d'être bloqué, blessé ou tué. QUITTEZ la zone située à proximité de [LOCATION]. Attendez-vous à une visibilité réduite, à une forte fumée et à des difficultés respiratoires. Soyez prudent en conduisant. Faites attention au personnel des services de sécurité publique opérant dans la zone et suivez leurs instructions. [URL]
Hazardous Materials Warning | [SENDING AGENCY]: un déversement de MATIÈRES DANGEREUSES s'est produit à [TIME] à [LOCATION]. Le contact avec ces matières peut entraîner des difficultés respiratoires, une perte de coordination, une sensation de brûlure dans les yeux, le nez, la gorge ou les poumons, des nausées et, éventuellement, la mort. QUITTEZ la zone située à proximité de [LOCATION]. SI VOUS CONDUISEZ pour évacuer la zone, gardez les fenêtres et les bouches d'aération de la voiture fermées. NE retournez PAS dans la zone après évacuation à moins d'avoir reçu la permission des autorités locales. [URL]
Evacuation Immediate | Un ordre d'évacuation a été émis par le/la [SENDING AGENCY] pour [LOCATION]. L'avis reste en vigueur jusqu'à [TIME]. Évacuez votre famille et vos animaux de compagnie dès maintenant, ne tardez pas. Faites attention au personnel des services de sécurité publique opérant dans la zone et suivez leurs instructions. [URL]
Shelter in Place Warning | Un avis d'abri en place a été émis par le/la [SENDING AGENCY] pour [LOCATION]. L'avis reste en vigueur jusqu'à [TIME]. Il existe un danger dans votre zone. Réfugiez-vous dans une pièce située à l'intérieur, fermez les portes et les fenêtres et restez là où vous vous trouvez. Consultez les médias locaux. Restez vigilant et faites preuve de prudence. [URL]

GERMAN TRANSLATION

STATIC ALERT TEMPLATES

Alert type | Alert template
MOST COMMONLY ISSUED ALERTS
Tornado Warning | TORNADO-NOTFALL. In dieser Gegend wurde ein Tornado gesichtet. Es handelt sich um eine lebensbedrohliche Situation. Suchen Sie sofort Schutz in einem Keller oder Innenraum im untersten Stockwerk eines stabilen Gebäudes. Wenn Sie sich im Freien, in einem Wohnmobil oder in einem Fahrzeug aufhalten, suchen Sie den nächstgelegenen sicheren Unterstand auf und schützen Sie sich vor umherfliegenden Trümmern. Informieren Sie sich in den Medien.
Flash Flood Warning | Für dieses Gebiet gilt eine STURZFLUTWARNUNG. Dies ist eine äußerst gefährliche und lebensbedrohliche Situation. Versuchen Sie nicht zu fahren, es sei denn, Sie fliehen aus einem Überschwemmungsgebiet oder haben einen Evakuierungsbefehl.
Severe Thunderstorm Warning | Für dieses Gebiet gilt eine SCHWERE GEWITTER WARNUNG mit zerstörerischen Windgeschwindigkeiten von 128 Kilometer pro Stunde. Suchen Sie Schutz in einem stabilen Gebäude, fern von Fenstern. Umherfliegende Trümmer können für Menschen, die keinen Schutz haben, tödlich sein.
Snow Squall Warning | Für dieses Gebiet gilt eine SCHNEEBÖENWARNUNG. Verlangsamen oder verzögern Sie die Reise! Seien Sie auf einen plötzlichen Abfall der Sichtverhältnisse und vereiste Straßen bei starkem Schneefall vorbereitet.
Dust Storm Warning | STAUBSTURMWARNUNG für dieses Gebiet. Seien Sie auf einen plötzlichen Abfall der Sichtverhältnisse vorbereitet. Zur Seite fahren und am Leben bleiben! Wenn die Sicht schlechter wird, fahren Sie weit von der Straße ab und parken Sie das Fahrzeug. Schalten Sie das Licht aus und lassen Sie den Fuß von der Bremse. Kleinkinder, ältere Menschen und Personen mit Atemwegserkrankungen werden aufgefordert Vorsichtsmaßnahmen zu treffen.
Hurricane Warning | Für dieses Gebiet gilt eine ORKANWARNUNG wegen gefährlichen und schädlichen Winden. Diese Warnung wird bis zu 36 Stunden vor Beginn gefährlicher Bedingungen ausgegeben. Die Bemühungen zum Schutz von Leben und Eigentum müssen dringend abgeschlossen werden. Halten Sie Lebensmittel, Wasser, Bargeld, Treibstoff und Medikamente für mehr als 3 Tage bereit. BEFOLGEN SIE DIE ANWEISUNG VON ÖRTLICHEN BEAMTEN.
Storm Surge Warning | Für dieses Gebiet gilt eine STURMFLUTWARNUNG wegen der Gefahr lebensgefährlicher Überschwemmungen. Diese Warnung wird bis zu 36 Stunden vor Beginn gefährlicher Bedingungen ausgegeben. Die Bemühungen zum Schutz von Leben und Eigentum müssen dringend abgeschlossen werden. Befolgen Sie gegebenenfalls für diesen Bereich gegebene Evakuierungsanweisungen, um zu vermeiden, dass Sie ertrinken oder Rettungsdiensten abgeschnitten werden.
Extreme Wind Warning | Für dieses Gebiet gilt eine EXTREME WINDWARNUNG wegen lebensbedrohlichen Windstärken. Gehen Sie SOFORT in Deckung, bestens in einen Innenraum eines stabilen Gebäudes. Schützen Sie Ihren Kopf vor umherfliegenden Trümmern. Gehen Sie NICHT während dem Orkanauge hinaus! Winde werden schnell wieder gefährlich.
Test Alert | DAS IST EIN TEST des bundesweiten Warnsystems. Der Zweck besteht darin, die Alarm- und Warnfunktionen auf Bundes-, Landes-, lokaler, Stammes- und Territorialebene aufrechtzuerhalten und zu verbessern und die öffentlichen Alarm- und Warnfunktionen des Landes zu bewerten. Es besteht kein Handlungsbedarf seitens der Öffentlichkeit.
MOST TIME-SENSITIVE ALERTS
Tsunami Warning | TSUNAMI-WARNUNG. Eine Reihe starker Wellen und starker Strömungen können Auswirkungen auf die Küsten in Ihrer Nähe haben. Bleiben Sie außer Gefahr und vermeiden Sie Küstengewässer. Gehen Sie sofort auf eine Anhöhe oder ins Landesinnere. Halten Sie sich von der Küste fern, bis die örtlichen Behörden sagen, daß die Rückkehr gesichert ist.
Earthquake Warning | ERDBEBEN ERKANNT! Hinlegen, abdecken, festhalten. Schützen Sie sich.
Boil Water Advisory | Für Ihre Region wurde ein ABKOCHGEBOT FÜR TRINKWASSER ausgegeben. Wasser in Ihrer Gemeinde kann Sie krank machen. Verwenden Sie, sofern verfügbar, Wasser in Flaschen. Trinken Sie nicht, kochen Sie nicht damit, putzen Sie sich nicht die Zähne und reinigen Sie Ihr Zuhause nicht mit Leitungswasser oder gefiltertem Wasser, bevor Sie es abgekocht haben. Bringen Sie das Wasser DREI MINUTEN lang zum Kochen. Lassen Sie das Wasser vor dem Gebrauch abkühlen. Verwenden Sie kein Eis, das mit nicht abgekochtem Wasser hergestellt wurde. Wenn Sie Ihr Kind mit Säuglingsnahrung ernähren, verwenden Sie Fertignahrung. Stellen Sie sicher, dass Haustiere kein Leitungswasser trinken, das nicht abgekocht ist. Verfolgen Sie die lokalen Medien.
911 Outage Alert | 112-AUSFALLALARM in diesem Bereich. Bitte wenden Sie sich im Notfall direkt an die Polizei, die Feuerwehr, den Arzt oder andere Rettungsdienste unter deren örtlichen Telefonnummern. Wenn Sie 112 wählen, erhalten Sie möglicherweise keine Hilfe.
Avalanche Warning | LAWINENWARNUNG in diesem Gebiet. Instabiler und gleitender Schnee kann schnell zu Verletzungen oder zum Tod führen und in den betroffenen Gebieten Straßen blockieren und Eigentum beschädigen. VERLASSEN Sie diesen Bereich. Kehren Sie nach der Evakuierung NICHT in das Gebiet zurück, bis Sie von den örtlichen Beamten dazu aufgefordert werden. Reisen in Lawinengebiete werden nicht empfohlen. Lawinen können weite Strecken zurücklegen.
Fire Warning | BRANDWARNUNG in diesem Bereich. Evakuieren Sie sofort Ihre Familie und Haustiere, zögern Sie nicht. Die Sicht in der Umgebung wird eingeschränkt und Straßen können blockiert werden. Wenn Sie jetzt nicht gehen, könnten Sie eingeklemmt, verletzt oder getötet werden. Rechnen Sie mit eingeschränkter Sicht, starker Rauchentwicklung und Atembeschwerden. Seien Sie beim Fahren vorsichtig. Achten Sie auf das in der Gegend tätige Personal der öffentlichen Sicherheit und befolgen Sie deren Anweisungen.
Hazardous Materials Warning | In Ihrer Region sind GEFAHRSTOFFE freigesetzt worden. Die Auslieferung kann zu Atembeschwerden, Koordinationsverlust, Brennen in Augen, Nase, Rachen oder Lunge, Übelkeit und möglicherweise zum Tod führen. VERLASSEN Sie diesen Bereich. Wenn Sie in einen Evakuierungsbereich fahren, halten Sie die Fenster und Lüftungsschlitze des Autos geschlossen. Kehren Sie nach der Evakuierung NICHT in das Gebiet zurück, bis Sie von den örtlichen Beamten dazu aufgefordert werden.
Evacuation Immediate | SOFORT evakuieren. In Ihrer Nähe erlassener Evakuierungsbefehl. Evakuieren Sie sofort Ihre Familie und Haustiere, zögern Sie nicht. Achten Sie auf das in der Gegend tätige Personal der öffentlichen Sicherheit und befolgen Sie deren Anweisungen.
Shelter in Place Warning | AUSGANSSPERRE in Ihrer Nähe. Gefahr in Ihrer Nähe. Gehen Sie in einen Innenraum, schließen Sie die Türen und Fenster und bleiben Sie, wo Sie sind. Überwachen Sie die lokalen Medien. Bleiben Sie wachsam und vorsichtig.

FORM-FILLABLE ALERT TEMPLATES

Alert type | Alert template
MOST COMMONLY ISSUED ALERTS
Tornado Warning | [SENDING AGENCY]: TORNADO-NOTFALL in [LOCATION] bis [TIME]. In dieser Gegend wurde ein Tornado gesichtet. Dies ist eine lebensbedrohliche Situation. Suchen Sie jetzt Schutz in einem Keller oder einem Innenraum im untersten Stockwerk eines stabilen Gebäudes. Wenn Sie sich im Freien, in einem Wohnmobil oder in einem Fahrzeug aufhalten, suchen Sie den nächstgelegenen sicheren Unterstand auf und schützen Sie sich vor umherfliegenden Trümmern. Medien verfolgen. [URL]
Flash Flood Warning | [SENDING AGENCY]: Für [LOCATION] gilt bis zum [TIME] ein STURZFLUTNOTSTAND. Dies ist eine äußerst gefährliche und lebensbedrohliche Situation. Versuchen Sie nicht zu fahren, es sei denn, Sie fliehen aus einem Überschwemmungsgebiet oder haben einen Evakuierungsbefehl. [URL]
Severe Thunderstorm Warning | [SENDING AGENCY]: SCHWERE GEWITTERWARNUNG gilt für [LOCATION] bis [TIME] für ZERSTÖRERISCHE Windgeschwindigkeiten von 128 km pro Stunde. Suchen Sie Schutz in einem stabilen Gebäude, fern von Fenstern. Umherfliegende Trümmer können für Menschen, die keinen Schutz haben, tödlich sein. [URL]
Snow Squall Warning | [SENDING AGENCY]: Schneeböenwarnung für [LOCATION] bis [TIME]. Verlangsamen oder verzögern Sie die Reise! Seien Sie auf einen plötzlichen Abfall der Sichtverhältnisse auf nahezu null und vereiste Straßen bei starkem Schneefall vorbereitet. [URL]
Dust Storm Warning | [SENDING AGENCY]: STAUBSTURMWARNUNG für [LOCATION] bis [TIME]. Seien Sie auf einen plötzlichen Abfall der der Sichtverhältnisse vorbereitet. Zurückziehen, am Leben bleiben! Wenn die Sicht schlechter wird, fahren Sie weit von der Straße ab und parken Ihr Fahrzeug. Schalten Sie das Licht aus und lassen Sie den Fuß von der Bremse. Kleinkinder, ältere Menschen und Personen mit Atemwegserkrankungen werden aufgefordert, Vorsichtsmaßnahmen zu treffen. [URL]
Hurricane Warning | [SENDING AGENCY]: Für [LOCATION] gilt eine ORKANWARNUNG wegen gefährlichen und schädlichen Winden, die bis [TIME] in Kraft ist. Diese Warnung wird bis zu 36 Stunden vor Beginn gefährlicher Bedingungen ausgegeben. Die Bemühungen zum Schutz von Leben und Eigentum müssen dringend abgeschlossen werden. Halten Sie Lebensmittel, Wasser, Bargeld, Treibstoff und Medikamente für mehr als 3 Tage bereit. Befolgen Sie die Anweisungen der örtlichen Beamten. [URL]
Storm Surge Warning | [SENDING AGENCY]: Für [LOCATION] gilt eine STURMFLUTWARNUNG wegen der Gefahr von lebensbedrohlichen Überschwemmungen bis [TIME]. Diese Warnung wird bis zu 36 Stunden vor Beginn gefährlicher Bedingungen ausgegeben. Die Bemühungen zum Schutz von Leben und Eigentum müssen dringend abgeschlossen werden. Befolgen Sie gegebenenfalls für diesen Bereich gegebene Evakuierungsanweisungen, um zu vermeiden, daß Sie ertrinken oder von Rettungsdiensten abgeschnitten werden. [URL]
Extreme Wind Warning | [SENDING AGENCY]: Für [LOCATION] gilt eine EXTREME WINDWARNUNG wegen unmittelbarer Gefahr durch lebensbedrohliche Winde bis [TIME]. Gehen Sie SOFORT in einem Innenraum eines stabilen Gebäudes, fern von Fenstern, in Deckung. Schützen Sie Ihren Kopf vor umherfliegenden Trümmern. Gehen Sie NICHT während dem Orkanauge hinaus! Winde werden schnell wieder gefährlich. [URL]
Test Alert | DIES IST EIN TEST des bundesweiten Warnsystems, gesendet von [SENDING AGENCY]. Der Zweck besteht darin, die Alarm- und Warnfunktionen auf Bundes-, Landes-, lokaler, Stammes- und Territorialebene aufrechtzuerhalten und zu verbessern und die öffentlichen Alarm- und Warnfunktionen des Landes zu bewerten. Es besteht kein Handlungsbedarf seitens der Öffentlichkeit. [URL]
MOST TIME-SENSITIVE ALERTS
Tsunami Warning | [SENDING AGENCY]: Die TSUNAMI-WARNUNG für [LOCATION] ist bis [TIME] in Kraft gesetzt. Eine Reihe starker Wellen und starker Strömungen können Auswirkungen auf die Küsten in Ihrer Nähe haben. Sie befinden sich in Gefahr. Vermeiden Sie Küstengewässer. Gehen Sie sofort auf eine Anhöhe oder ins Landesinnere. Halten Sie sich von der Küste fern, bis die örtlichen Behörden sagen, dass die Rückkehr gesichert ist. [URL]
Earthquake Warning | ERDBEBEN ERKANNT! Hinlegen, abdecken, festhalten. Schützen Sie sich. [SENDING AGENCY] [URL]
Boil Water Advisory | [SENDING AGENCY]: Die für [LOCATION] ausgestellte KOCHWASSERWARNUNG ist bis [TIME] gültig. Wasser in Ihrer Gemeinde kann Sie krank machen. Verwenden Sie, sofern verfügbar, Wasser in Flaschen. Trinken Sie nicht, kochen Sie nicht damit, putzen Sie sich nicht die Zähne und reinigen Sie Ihr Zuhause nicht mit Leitungswasser oder gefiltertem Wasser, bis Sie es abgekocht haben. Bringen Sie das Wasser DREI MINUTEN lang zum Kochen. Lassen Sie das Wasser vor dem Gebrauch abkühlen. Verwenden Sie kein Eis, das mit nicht abgekochtem Wasser hergestellt wurde. Wenn Sie Ihr Kind mit Säuglingsnahrung ernähren, verwenden Sie Fertignahrung. Stellen Sie sicher, dass Haustiere kein Wasser trinken, das nicht abgekocht ist. [URL]
911 Outage Alert | [SENDING AGENCY]: 112-AUSFALLALARM in [LOCATION] bis [TIME]. Bitte wenden Sie sich im Notfall direkt an die Polizei, die Feuerwehr, den Arzt oder andere Rettungsdienste unter deren örtlichen Telefonnummern. Wenn Sie 112 wählen, erhalten Sie möglicherweise keine Hilfe. [URL]
Avalanche Warning | [SENDING AGENCY]: Die LAWINENWARNUNG in [LOCATION] gilt bis [TIME]. Instabiler, schnell gleitender Schnee kann sehr schnell zu Verletzungen oder zum Tod führen und in den betroffenen Gebieten Straßen blockieren und Eigentum beschädigen. VERLASSEN Sie Bereiche in der Nähe von [LOCATION]. Kehren Sie nach der Evakuierung NICHT in das Gebiet zurück, bis Sie von den örtlichen Beamten dazu aufgefordert werden. Reisen in Lawinengebieten werden nicht empfohlen. Lawinen können weite Strecken zurücklegen. [URL]
Fire Warning | [SENDING AGENCY] BRANDWARNUNG in [LOCATION] ist bis [TIME] in Kraft. Evakuieren Sie sofort Ihre Familie und Haustiere, zögern Sie nicht. Die Sicht in der Umgebung wird eingeschränkt und Straßen können blockiert werden. Wenn Sie jetzt nicht gehen, könnten Sie eingeklemmt, verletzt oder getötet werden. VERLASSEN Sie Bereiche in der Nähe von [LOCATION]. Rechnen Sie mit eingeschränkter Sicht, starker Rauchentwicklung und Atembeschwerden. Seien Sie beim Fahren vorsichtig. Achten Sie auf das in der Gegend tätige Personal der öffentlichen Sicherheit und befolgen Sie deren Anweisungen. [URL]
Hazardous Materials Warning | [SENDING AGENCY]: Um [TIME] ist es in [LOCATION] zu einer FREISETZUNG GEFÄHRLICHER STOFFE gekommen. Die Exposition kann zu Atembeschwerden, Koordinationsverlust, Brennen in Augen, Nase, Rachen oder Lunge, Übelkeit und möglicherweise zum Tod führen. VERLASSEN Sie Bereiche in der Nähe von [LOCATION]. Falls Sie in einen Evakuierungsbereich FAHREN, halten Sie die Fenster und Lüftungsschlitze des Autos geschlossen. Kehren Sie nach der Evakuierung NICHT in das Gebiet zurück, es sei denn, Sie werden von örtlichen Beamten angewiesen. [URL]
Evacuation Immediate | [SENDING AGENCY] hat einen Evakuierungsbefehl für [LOCATION] erlassen, der bis [TIME] gültig ist. Evakuieren Sie sofort Ihre Familie und Haustiere zögern Sie nicht. Achten Sie auf das in der Gegend tätige Personal der öffentlichen Sicherheit und befolgen Sie deren Anweisungen. [URL]
Shelter in Place Warning | [SENDING AGENCY] hat eine Ausganssperre Warnung für [LOCATION] herausgegeben, die bis [TIME] in Kraft steht. Gefahr in Ihrer Nähe. Gehen Sie in einen Innenraum, schließen Sie die Türen und Fenster und bleiben Sie, wo Sie sind. Bleiben Sie wachsam und vorsichtig. [URL]

HAITIAN CREOLE TRANSLATION

STATIC ALERT TEMPLATES

Alert type | Alert template
MOST COMMONLY ISSUED ALERTS
Tornado Warning | IJANS TORNAD. Toubiyon te lokalize nan zòn sa a. Sa a se yon sitiyasyon ki menase lavi. Pran abri kounye a nan yon sousòl oswa yon chanm enteryè nan etaj ki pi ba a nan yon bilding ki solid. Si w deyò, nan yon kay mobil, oswa nan yon machin, ale nan abri sibstansyèl ki pi pre a epi pwoteje tèt ou kont debri k ap vole. Tcheke medya yo.
Flash Flood Warning | YON IJANS INONDASYON RAPID an vigè pou zòn sa a. Sa a se yon sitiyasyon trè danjere e ki menase lavi. Pa eseye vwayaje sof si w ap sove kite yon zòn ki sibi inondasyon oswa anba yon lòd evakyasyon.
Severe Thunderstorm Warning | AVÈTISMAN POU GWO TANPET LORAJ an vigè pou zòn sa a pou van DESTRIKTIF a 80 mil alè. Pran abri nan yon bilding ki solid, lwen fenèt yo. Debri k ap Vole ka danjere pou moun ki sezi san abri.
Snow Squall Warning | AVÈTISMAN POU LANÈJ TOUDENKOU an efè pou zòn sa a. Ralanti oswa ranvwaye vwayaj ou! Pare pou yon rediksyon toudenkou nan vizibilite toupre zewo ak wout ki gen glas nan gwo nèj.
Dust Storm Warning | AVÈTISMAN POU TANPÈT POUSYÈ pou zòn sa a. Prepare w pou yon vizibilite ki tonbe a zewo toudenkou. Ale sou kote, rete vivan! Lè vizibilite bese, rale tèt ou byen lwen arebò wout la epi mete machin ou a sou pak. Etenn limyè yo epi retire pye ou sou fren an. Tibebe, granmoun aje yo ak moun ki gen pwoblèm respiratwa ankouraje pou yo pran prekosyon.
Hurricane Warning | YON AVÈTISMAN POU SIKLÒN an efè pou zòn sa a pou van ki danjere e ki ka lakòz domaj. Avètisman sa a bay jiska 36 èdtan anvan kondisyon danjere yo kòmanse. Prese fè efò pou w pwoteje lavi ak pwopriyete. Gen manje, dlo, lajan kach, gaz, ak medikaman pou 3+ jou. SWIV ENSTRIKSYON OFISYÈ LOCAL YO.
Storm Surge Warning | Yon AVÈTISMAN POU TANPÈT AK GWO VAG an efè pou zòn sa a pou danje inondasyon ki menase lavi. Avètisman sa a bay jiska 36 èdtan anvan kondisyon danjere yo kòmanse. Prese fè efò pou w pwoteje lavi ak pwopriyete. Swiv lòd evakyasyon yo si yo bay yo pou zòn sa a, pou evite nwaye oswa koupe de sèvis ijans yo.
Extreme Wind Warning | YON AVÈTISMAN POU VAN EKSTRÈM an efè pou zòn sa a pou danje imedyat van ki menase lavi. Kache kounye a nan yon chanm enteryè nan yon bilding ki solid, lwen fenèt yo. Pwoteje tèt ou kont debri k ap vole. PA soti nan kalm je siklòn la! Van yo pral vin danjere byen vit ankò.
Test Alert | SA SE YON TÈS Sistèm Nasyonal Avètisman San Fil pou Ijans la. Objektif la se kenbe ak amelyore kapasite alèt ak avètisman nan nivo federal, eta, lokal, Tribi ak teritoryal epi evalye kapasite alèt ak avètisman piblik nasyon an. Piblik la pa gen okenn aksyon li oblije pran.
MOST TIME-SENSITIVE ALERTS
Tsunami Warning | AVÈTISMAN POU TSUNAMI. Yon seri vag pwisan ak kouran fò ka afekte kòt ki toupre w yo. Ou an danje. Ale lwen dlo kotyè yo. Ale nan tè wo oswa ki andedan kounye a. Rete lwen kòt la jiskaske otorite lokal yo di li an sekirite pou w retounen.
Earthquake Warning | TRANBLEMAN TÈ DETEKTE! Bese, kouvri, kenbe. Pwoteje tèt ou.
Boil Water Advisory | YON KONSÈY POU BOUYI DLO bay pou zòn ou an. Dlo nan kominote w la ka fè w malad. Sèvi ak dlo nan boutèy si sa disponib. Pa bwè, kwit manje, bwose dan ou, oswa netwaye kay ou ak dlo tiyo oswa dlo filtre pa anvan ou bouyi li. Fè dlo a bouyi woule an plen PANDAN TWA MINIT. Si w itilize fòmil pou bay pitit ou manje, sèvi ak fòmil ki pare pou itilize. Asire w ke bèt kay pa bwè dlo ki pa te bouyi. Tcheke medya lokal yo.
911 Outage Alert | AVÈTISMAN PANN 911 nan zòn sa a. Tanpri kontakte lapolis, ponpye, medikal, oswa lòt sèvis ijans dirèkteman nan nimewo telefòn lokal yo nan ka ijans. Si w rele 911, ou ka pa jwenn èd.
Avalanche Warning | AVÈTISMAN POU LAVALAS nan zòn sa a. Nèj ki enstab, an mouvman rapid ka rive byen vit, sa ka lakòz blesi oswa lanmò epi li ka bloke wout ak domaje pwopriyete nan zòn ki afekte yo. KITE zòn sa a. PA retounen nan zòn nan apre evakyasyon an jiskaske otorite lokal yo dirije w. Vwayaje nan tèren lavalas pa rekòmande. Lavalas gendwa kouvri distans ki byen lwen.
Fire Warning | AVÈTISMAN POU DIFE nan zòn sa a. Evakye fanmi w ak bèt kay ou kounye a, pa pran reta. Vizibilite nan zòn nan pral redwi epi wout yo ka vin bloke. Si ou pa kite kounye a, ou ka bloke, blese, oswa mouri. Atann ou a vizibilite ki diminye, gwo lafimen, ak difikilte pou respire. Fè atansyon lè w ap kondwi. Siveye pèsonèl sekirite piblik k ap travay nan zòn nan epi swiv enstriksyon yo.
Hazardous Materials Warning | YON MATERYÈL DANJERE te lage nan zòn ou an. Ekspoze a li ka lakòz difikilte pou respire, pèt kowòdinasyon, sansasyon boule nan je, nen, gòj, oswa poumon, kè plen, e pètèt lanmò. KITE zòn sa a. SI W ap KONDWI pou w evakye zòn nan, kenbe fenèt ak vantilasyon machin yo fèmen. PA retounen nan zòn nan apre evakyasyon an jiskaske otorite lokal yo dirije w.
Evacuation Immediate | EVAKYE IMEDYATMAN. Lòd evakyasyon bay nan zòn ou an. Evakye fanmi w ak bèt kay ou kounye a, pa pran reta. Siveye pèsonèl sekirite piblik k ap travay nan zòn nan epi swiv enstriksyon yo.
Shelter in Place Warning | AVETISMAN POU PRAN ABRI AN PLAS te bay nan zòn ou an. Danje nan zòn ou an. Ale andedan nan yon chanm enteryè, fèmen pòt yo ak fenèt yo, epi rete kote ou ye a. Tcheke medya lokal yo. Rete vijilan epi pran prekosyon.

FORM-FILLABLE ALERT TEMPLATES

Alert type | Alert template
MOST COMMONLY ISSUED ALERTS
Tornado Warning | [SENDING AGENCY]: IJANS TORNAD nan [LOCATION] jiska [TIME]. Toubiyon detekte nan zòn sa a. Sa a se yon sitiyasyon ki menase lavi. Pran abri kounye a nan yon sousòl oswa yon chanm enteryè nan etaj ki pi ba a nan yon bilding ki solid. Si w deyò, nan yon kay mobil, oswa nan yon machin, ale nan abri sibstansyèl ki pi pre a epi pwoteje tèt ou kont debri k ap vole. Tcheke medya yo. [URL]
Flash Flood Warning | [SENDING AGENCY]: YON IJANS INONDASYON RAPID an vigè pou [LOCATION] jiska [TIME]. Sa a se yon sitiyasyon trè danjere e ki menase lavi. Pa eseye vwayaje sof si w ap sove kite yon zòn ki sibi inondasyon oswa anba yon lòd evakyasyon. [URL]
Severe Thunderstorm Warning | [SENDING AGENCY]: AVÈTISMAN POU GWO TANPÈT AK LORAJ an vigè pou [LOCATION] jiska [TIME] pou Van DESTRUKTIF a 80 mil alè. Pran abri nan yon bilding ki solid, lwen fenèt yo. Debri ki ap vole yo ka trè danjere pou moun ki sezi san abri. [URL]
Snow Squall Warning | [SENDING AGENCY]: Avètisman pou Lanèj Toudenkou pou [LOCATION] jiska [TIME]. Ralanti oswa ranvwaye vwayaj ou! Pare pou yon rediksyon toudenkou nan vizibilite toupre zewo ak wout ki gen glas pandan gwo nèj. [URL]
Dust Storm Warning | [SENDING AGENCY]: AVETISMAN POU TANPÈT POUSYÈ for [LOCATION] jiska [TIME]. Prepare w pou yon vizibilite ki tonbe a zewo toudenkou. Ale sou kote, rete vivan! Lè vizibilite bese, rale tèt ou byen lwen arebò wout la epi mete machin ou a sou pak. Etenn limyè yo epi retire pye ou sou fren an. Tibebe, granmoun aje yo ak moun ki gen pwoblèm respiratwa ankouraje pou yo pran prekosyon. [URL]
Hurricane Warning | [SENDING AGENCY]: YON AVÈTISMAN POU SIKLÒN an efè pou [LOCATION] pou van ki danjere e ki ka lakòz domaj an efè jiska [TIME]. Avètisman sa a bay jiska 36 èdtan anvan kondisyon danjere yo kòmanse. Prese fè efò pou w pwoteje lavi ak pwopriyete. Gen manje, dlo, lajan kach, gaz, ak medikaman pou 3+ jou. SWIV ENSTRIKSYON OFISYÈ LOCAL YO. [URL]
Storm Surge Warning | [SENDING AGENCY]: YON AVÈTISMAN TANPÈT AK GWO VAG an vigè pou [LOCATION] pou danje inondasyon ki menase lavi jiska [TIME]. Avètisman sa a bay jiska 36 èdtan anvan kondisyon danjere yo kòmanse. Prese fè efò pou w pwoteje lavi ak pwopriyete. Swiv lòd evakyasyon yo si yo bay yo pou zòn sa a, pou evite nwaye oswa koupe de sèvis ijans yo. [URL]
Extreme Wind Warning | [SENDING AGENCY]: Yon AVÈTISMAN POU VAN EKTRÈM an vigè pou [LOCATION] pou danje imedyat van ki menase lavi jiska [TIME]. Kache kounye a nan yon chanm enteryè nan yon bilding ki solid, lwen fenèt yo. Pwoteje tèt ou kont debri k ap vole. PA soti nan kalm je siklòn la! Van yo pral pral danjere byen vit ankò. [URL]
Test Alert | SA SE YON TÈS Sistèm Nasyonal Avètisman San Fil pou Ijans la [SENDING AGENCY]. Objektif la se kenbe ak amelyore kapasite alèt ak avètisman nan nivo federal, eta, lokal, Tribi ak teritoryal epi evalye kapasite alèt ak avètisman piblik nasyon an. Piblik la pa gen okenn aksyon li oblije pran. [URL]
MOST TIME-SENSITIVE ALERTS
Tsunami Warning | [SENDING AGENCY]: AVÈTISMAN POU TSUNAMI pou [LOCATION] an vigè jiska [TIME]. Yon seri vag pwisan ak kouran fò ka afekte kòt ki toupre w yo. Ou an danje. Ale lwen dlo kotyè yo. Ale nan tè wo oswa ki andedan kounye a. Rete lwen kòt la jiskaske otorite lokal yo di li an sekirite pou w retounen. [URL]
Earthquake Warning | TRANBLEMANNTÈ DETEKTE! Bese, kouvri, kenbe. Pwoteje tèt ou. [SENDING AGENCY] [URL]
Boil Water Advisory | [SENDING AGENCY]: YON KONSÈY POU BOUYI DLO bay pou [LOCATION] an vigè jiska [TIME]. Dlo nan kominote w la ka fè w malad. Sèvi ak dlo nan boutèy si sa disponib. Pa bwè, kwit manje, bwose dan ou, oswa netwaye kay ou ak dlo tiyo oswa dlo filtre pa anvan ou bouyi li. Fè dlo a bouyi woule an plen PANDAN TWA MINIT. Si w itilize fòmil pou bay pitit ou manje, sèvi ak fòmil ki pare pou itilize. Asire w ke bèt kay pa bwè dlo ki pa te bouyi. Tcheke medya lokal yo. [URL]
911 Outage Alert | [SENDING AGENCY]: AVÈTISMAN PANN 911 nan [LOCATION] an vigè jiska [TIME]. Tanpri kontakte lapolis, ponpye, medikal, oswa lòt sèvis ijans dirèkteman nan nimewo telefòn lokal yo nan ka ijans. Si w rele 911, ou ka pa jwenn èd. [URL]
Avalanche Warning | [SENDING AGENCY]: AVÈTISMAN POU LAVALAS nan [LOCATION] an vigè jiska [TIME]. Nèj ki enstab, an mouvman rapid ka rive byen vit, sa ka lakòz blesi oswa lanmò epi li ka bloke wout ak domaje pwopriyete nan zòn ki afekte yo. KITE zòn ki toupre [LOCATION]. PA retounen nan zòn nan apre evakyasyon an jiskaske otorite lokal yo dirije w. Vwayaje nan tèren lavalas pa rekòmande. Lavalas gendwa kouvri distans ki byen lwen. [URL]
Fire Warning | [SENDING AGENCY] AVÈTISMAN POU DIFE nan [LOCATION] an vigè jiska [TIME]. Evakye fanmi w ak bèt kay ou kounye a, pa pran reta. Vizibilite nan zòn nan pral redwi epi wout yo ka vin bloke. Si ou pa kite kounye a, ou ka bloke, blese, oswa mouri. KITE zòn ki toupre [LOCATION]. Atann ou a vizibilite ki diminye, gwo lafimen, ak difikilte pou respire. Fè atansyon lè w ap kondwi. Siveye pèsonèl sekirite piblik k ap travay nan zòn nan epi swiv enstriksyon yo. [URL]
Hazardous Materials Warning | [SENDING AGENCY] : YON MATERYÈL DANJERE te lage a [TIME] nan [LOCATION]. Ekspoze a li ka lakòz difikilte pou respire, pèt kowòdinasyon, sansasyon boule nan je, nen, gòj, oswa poumon, kè plen, e pètèt lanmò. KITE zòn ki toupre [LOCATION]. SI W ap KONDWI pou w evakye zòn nan, kenbe fenèt ak vantilasyon machin yo fèmen. PA retounen nan zòn nan apre evakyasyon an jiskaske otorite lokal yo dirije w. [URL]
Evacuation Immediate | [SENDING AGENCY] te bay yon Lòd evakyasyon pou [LOCATION] ki an vigè jiska [TIME]. Evakye fanmi w ak bèt kay ou kounye a, pa pran reta. Siveye pèsonèl sekirite piblik k ap travay nan zòn nan epi swiv enstriksyon yo. [URL]
Shelter in Place Warning | [SENDING AGENCY] te bay yon Lòd POU [LOCATION] PRAN ABRI AN PLAS ki an vigè jiska. Danje nan zòn ou an. Ale andedan nan yon chanm enteryè, fèmen pòt yo ak fenèt yo, epi rete kote ou ye a. Rete vijilan epi pran prekosyon. [URL]

BILLING CODE 6712-01-P

BILLING CODE 6712-01-C

ITALIAN TRANSLATION

STATIC ALERT TEMPLATES

Alert type | Alert template
MOST COMMONLY ISSUED ALERTS
Tornado Warning | EMERGENZA TORNADO. Tornado avvistato in zona. Questo evento rappresenta un pericolo per la vita. Si esortano gli utenti a mettersi al riparo in un seminterrato o in una stanza cieca al piano più basso di un edificio resistente. Chi si trova all'aperto, in una casa mobile o in un veicolo, deve mettersi al riparo in una struttura adeguata più vicina e proteggersi dai detriti volanti. Tenersi sempre aggiornati sui mezzi di comunicazione.
Flash Flood Warning | EMERGENZA ALLUVIONE IMMEDIATA in vigore per quest'area. Si tratta di una situazione estremamente pericolosa, anche per la vita. Si esortano gli utenti a non mettersi in viaggio a meno che non ci si stia allontanando da un'area soggetta ad inondazioni o ad un ordine di evacuazione.
Severe Thunderstorm Warning | AVVISO DI FORTI TEMPORALI in vigore per quest'area, caratterizzati da VIOLENTE raffiche di vento che potrebbero raggiungere quasi 130 chilometri (80 miglia) all'ora. Ripararsi in un edificio resistente e lontano dalle finestre. I detriti volanti potrebbero causare danni letali a coloro che si trovano all'aperto.
Snow Squall Warning | AVVISO BUFERA DI NEVE in vigore per quest'area. Si esortano gli utenti che si trovano in viaggio di rallentare o di posticipare il viaggio! Gli utenti devono tenersi pronti a possibili perdite improvvise di visibilità, anche pressoché totale, e alla presenza di ghiaccio sul manto stradale in caso di forti nevicate.
Dust Storm Warning | AVVISO DI TEMPESTA DI SABBIA in questa zona. Tenersi pronti ad un improvviso calo di visibilità fino a zero. Si esortano i guidatori di accostarsi per tenersi in sicurezza! Quando la visibilità diminuisce, accostarsi e parcheggiare il proprio veicolo. Spegnere le luci e tenere il piede lontano dal pedale del freno. Neonati, anziani e persone con patologie espiratori sono invitati a prendere precauzioni.
Hurricane Warning | In quest'area è in vigore un'ALLARME URAGANO con venti pericolosi e dannosi. Il presente avviso viene emesso fino a 36 ore prima che si verifichino condizioni pericolose. Si esortano gli utenti ad affrettarsi a fare i dovuti preparativi per proteggere la vita e le proprietà. Avere a disposizione cibo, acqua, contanti, carburante e farmaci per più di 3 giorni. SEGUIRE LE ISTRUZIONI FORNITE DAI FUNZIONARI LOCALI.
Storm Surge Warning | In quest'area è in vigore un'AVVISO DI MAREGGIATA con pericolo di inondazioni potenzialmente letali. Il presente avviso viene emesso fino a 36 ore prima che si verifichino condizioni pericolose. Si esortano gli utenti ad affrettarsi a fare i dovuti preparativi per proteggere la vita e le proprietà. Seguire gli ordini di evacuazione applicabili a quest'area, per evitare di annegare o di non poter fare uso dei servizi di emergenza.
Extreme Wind Warning | In quest'area è in vigore un' AVVISO DI VENTO ESTREMO con pericolo immediato di raffiche di vento potenzialmente letali. Mettersi al riparo in QUESTO MOMENTO in una stanza cieca di un edificio resistente e lontano dalle finestre. Proteggersi da eventuali detriti volanti. NON recarsi all'aperto durante periodi di calma nel corso dell'uragano! Raffiche di vento si verificano all'improvviso anche dopo periodi di calma.
Test Alert | QUESTO È UN TEST condotto dal Sistema nazionale di allarme di emergenza wireless. Lo scopo è quello di mantenere e migliorare le capacità di allerta e di allarme a livello federale, statale, locale, tribale e territoriale, e di valutare le capacità di allerta e di allarme pubblico della nazione. Non è richiesta alcuna azione da parte del pubblico.
MOST TIME-SENSITIVE ALERTS
Tsunami Warning | ALLARME TSUNAMI. Una serie di onde alte e forti correnti possono colpire le coste vicino alla tua zone. Chi vive in questa zona si trova in pericolo. Allontanarsi dalla costa. Spostarsi in questo momento su un'altura o nell'entroterra. Tenersi lontani dalla costa finché le autorità locali non avranno dichiarato che è sicuro rientrare in zona.
Earthquake Warning | RILEVATO TERREMOTO! Allungarsi sul pavimento, coprirsi e restare sul posto. Tenersi al sicuro.
Boil Water Advisory | AVVISO DI BOLLITURA DELL'ACQUA emesso per la tua zona. L'acqua nella tua comunità potrebbe causare problemi di salute. Se disponibile, utilizzare acqua in bottiglia. Non bere, cucinare, lavarsi i denti o fare pulizie con acqua del rubinetto o filtrata finché non sia stata bollita. Portare l'acqua ad ebollizione completa per TRE MINUTI. Lasciare raffreddare l'acqua prima dell'uso. Non utilizzare ghiaccio prodotto con acqua non bollita. Chi fa uso di latte artificiale per nutrire neonati deve utilizzare latte artificiale pronto all'uso. Assicurarsi che gli animali domestici non bevano acqua che non sia stata bollita. Tenersi sempre aggiornati sui mezzi di comunicazione locali.
911 Outage Alert | AVVISO DI INTERRUZIONE del servizio 911 in quest'area. In caso di emergenza, contattare la Polizia, i Vigili del Fuoco, i servizi medici o altri servizi di emergenza direttamente ai numeri di telefono locali. Il 911 potrebbe non essere disponibile in caso di emergenza.
Avalanche Warning | ALLARME VALANGE in questa zona. La neve instabile potrebbe mettersi rapidamente in movimento, causando lesioni o morte, bloccando strade e danneggiando proprietà nelle aree colpite. ALLONTANARSI da questa zona. NON ritornare nell'area finché non siano i funzionari locali ad emettere il permesso di rientro. Si sconsiglia di transitare su terreni soggetti a valanghe. Le valanghe possono attraversare anche lunghe distanze.
Fire Warning | AVVISO INCENDIO in questa zona. Abbandonare immediatamente l'area con la propria famiglia ed eventuali animali domestici, non attardarsi. La visibilità nell'area sarà ridotta e le strade potrebbero essere bloccate. Chi si attarda ad evacuare potrebbe restare intrappolato, ferito o perire. Aspettarsi di incontrare visibilità ridotta, fumo pesante e difficoltà respiratorie. Fare attenzione durante la guida. Prestare attenzione al personale di pubblica sicurezza che opera nella zona e seguire le loro istruzioni.
Hazardous Materials Warning | Si è verificata una fuoriuscita di MATERIALI PERICOLOSI nella tua zona. L'esposizione può causare difficoltà di respirazione, perdita di coordinazione, sensazione di bruciore agli occhi, al naso, alla gola o ai polmoni, nausea e possibilmente il decesso. ALLONTANARSI da questa zona. CHI SI METTE ALLA GUIDA per evacuare l'area deve tenere chiusi i finestrini e le prese d'aria dell'auto. NON ritornare nell'area finché non siano i funzionari locali ad emettere il permesso di rientro.
Evacuation Immediate | EVACUARE IMMEDIATAMENTE. Ordine di evacuazione emesso nella tua zona. Abbandonare immediatamente l'area con la propria famiglia ed eventuali animali domestici, non attardarsi. Prestare attenzione al personale di pubblica sicurezza che opera nella zona e seguire le loro istruzioni.
Shelter in Place Warning | AVVISO DI TENERSI AL CHIUSO emesso nella tua zona. Pericolo nella tua zona. Spostarsi in una stanza cieca, chiudere porte e finestre e restare sul posto. Tenersi sempre aggiornati sui mezzi di comunicazione locali. Prestare attenzione e agire con cautela.

FORM-FILLABLE ALERT TEMPLATES

Alert type | Alert template
MOST COMMONLY ISSUED ALERTS
Tornado Warning | [SENDING AGENCY]: EMERGENZA TORNADO in [LOCATION] fino alle [TIME]. Tornado avvistato in zona. Questo evento rappresenta un pericolo per la vita. Si esortano gli utenti a mettersi al riparo in un seminterrato o in una stanza cieca al piano più basso di un edificio resistente. Chi si trova all'aperto, in una casa mobile o in un veicolo, deve mettersi al riparo in una struttura adeguata più vicina e proteggersi dai detriti volanti. Tenersi sempre aggiornati sui mezzi di comunicazione. [URL]
Flash Flood Warning | [SENDING AGENCY]: EMERGENZA ALLUVIONE IMMEDIATA in vigore per [LOCATION] fino alle [TIME]. Si tratta di una situazione estremamente pericolosa, anche per la vita. Si esortano gli utenti a non mettersi in viaggio a meno che non ci si stia allontanando da un'area soggetta ad inondazioni o ad un ordine di evacuazione. [URL]
Severe Thunderstorm Warning | [SENDING AGENCY]: AVVISO DI FORTI TEMPORALI in vigore per [LOCATION] fino alle [TIME] caratterizzati da VIOLENTE raffiche di vento che potrebbero raggiungere quasi 130 chilometri (80 miglia) all'ora. Ripararsi in un edificio resistente e lontano dalle finestre. I detriti volanti potrebbero causare danni letali a coloro che si trovano all'aperto. [URL]
Snow Squall Warning | [SENDING AGENCY]: Allarme tempesta di neve per [LOCATION] fino alle [TIME]. Si esortano gli utenti che si trovano in viaggio di rallentare o di posticipare il viaggio! Gli utenti devono tenersi pronti a possibili perdite improvvise di visibilità, anche pressoché totale, e alla presenza di ghiaccio sul manto stradale in caso di forti nevicate. [URL]
Dust Storm Warning | [SENDING AGENCY]: AVVISO DI TEMPESTA DI SABBIA per [LOCATION] fino alle [TIME]. Tenersi pronti ad un improvviso calo di visibilità fino a zero. Si esortano i guidatori di accostarsi per tenersi in sicurezza! Quando la visibilità diminuisce, accostarsi e parcheggiare il proprio veicolo. Spegnere le luci e tenere il piede lontano dal pedale del freno. Neonati, anziani e persone con patologie espiratori sono invitati a prendere precauzioni. [URL]
Hurricane Warning | [SENDING AGENCY]: È in vigore un'ALLARME URAGANO per [LOCATION] con venti pericolosi e dannosi fino alle [TIME]. Il presente avviso viene emesso fino a 36 ore prima che si verifichino condizioni pericolose. Si esortano gli utenti ad affrettarsi a fare i dovuti preparativi per proteggere la vita e le proprietà. Avere a disposizione cibo, acqua, contanti, carburante e farmaci per più di 3 giorni. SEGUIRE LE ISTRUZIONI FORNITE DAI FUNZIONARI LOCALI. [URL]
Storm Surge Warning | [SENDING AGENCY]: È in vigore un'AVVISO DI MAREGGIATA per [LOCATION] con pericolo di inondazioni potenzialmente letali fino alle [TIME]. Il presente avviso viene emesso fino a 36 ore prima che si verifichino condizioni pericolose. Si esortano gli utenti ad affrettarsi a fare i dovuti preparativi per proteggere la vita e le proprietà. Seguire gli ordini di evacuazione applicabili a quest'area, per evitare di annegare o di non poter fare uso dei servizi di emergenza. [URL]
Extreme Wind Warning | [SENDING AGENCY]: È in vigore un' AVVISO DI VENTO ESTREMO per [LOCATION] con pericolo immediato di raffiche di vento potenzialmente letali fino alle [TIME]. Mettersi al riparo in QUESTO MOMENTO in una stanza cieca di un edificio resistente e lontano dalle finestre. Proteggersi da eventuali detriti volanti. NON recarsi all'aperto durante periodi di calma nel corso dell'uragano! Raffiche di vento si verificano all'improvviso anche dopo periodi di calma. [URL]
Test Alert | QUESTO È UN TEST condotto dal Sistema nazionale di allarme di emergenza wireless emesso da [SENDING AGENCY]. Lo scopo è quello di mantenere e migliorare le capacità di allerta e di allarme a livello federale, statale, locale, tribale e territoriale, e di valutare le capacità di allerta e di allarme pubblico della nazione. Non è richiesta alcuna azione da parte del pubblico. [URL]
MOST TIME-SENSITIVE ALERTS
Tsunami Warning | [SENDING AGENCY]: Un ALLARME TSUNAMI per [LOCATION] è in vigore fino alle [TIME]. Una serie di onde alte e forti correnti possono colpire le coste vicino alla tua zone. Chi vive in questa zona si trova in pericolo. Allontanarsi dalla costa. Spostarsi in questo momento su un'altura o nell'entroterra. Tenersi lontani dalla costa finché le autorità locali non avranno dichiarato che è sicuro rientrare in zona. [URL]
Earthquake Warning | RILEVATO TERREMOTO! Allungarsi sul pavimento, coprirsi e restare sul posto. Tenersi al sicura. [SENDING AGENCY] [URL]
Boil Water Advisory | [SENDING AGENCY]: Un AVVISO DI BOLLITURA DELL'ACQUA è stato emesso per [LOCATION] fino alle [TIME] L'acqua nella tua comunità potrebbe causare problemi di salute. Se disponibile, utilizzare acqua in bottiglia. Non bere, cucinare, lavarsi i denti o fare pulizie con acqua del rubinetto o filtrata finché non sia stata bollita. Portare l'acqua ad ebollizione completa per TRE MINUTI. Lasciare raffreddare l'acqua prima dell'uso. Non utilizzare ghiaccio prodotto con acqua non bollita. Chi fa uso di latte artificiale per nutrire neonati deve utilizzare latte artificiale pronto all'uso. Assicurarsi che gli animali domestici non bevano acqua che non sia stata bollita. [URL]
911 Outage Alert | [SENDING AGENCY]: AVVISO DI INTERRUZIONE del servizio 911 in [LOCATION] fino alle [TIME]. In caso di emergenza, contattare la Polizia, i Vigili del Fuoco, i servizi medici o altri servizi di emergenza direttamente ai numeri di telefono locali. Il 911 potrebbe non essere disponibile in caso di emergenza. [URL]
Avalanche Warning | [SENDING AGENCY]: L'ALLARME VALANGHE per [LOCATION] è in vigore fino alle [TIME]. La neve instabile potrebbe mettersi rapidamente in movimento, causando lesioni o morte, bloccando strade e danneggiando proprietà nelle aree colpite. ALLONTANARSI dalle aree vicino a [LOCATION]. NON ritornare nell'area finché non siano i funzionari locali ad emettere il permesso di rientro. Si sconsiglia di transitare su terreni soggetti a valanghe. Le valanghe possono attraversare anche lunghe distanze. [URL]
Fire Warning | [SENDING AGENCY] L'AVVISO DI INCENDIO in/a [LOCATION] è in vigore fino alle [TIME]. Abbandonare immediatamente l'area con la propria famiglia ed eventuali animali domestici, non attardarsi. La visibilità nell'area sarà ridotta e le strade potrebbero essere bloccate. Chi si attarda ad evacuare potrebbe restare intrappolato, ferito o perire. ALLONTANARSI dalle aree vicino a [LOCATION]. Aspettarsi di incontrare visibilità ridotta, fumo pesante e difficoltà respiratorie. Fare attenzione durante la guida. Prestare attenzione al personale di pubblica sicurezza che opera nella zona e seguire le loro istruzioni. [URL]
Hazardous Materials Warning | [SENDING AGENCY]: Si è verificata una fuoriuscita di MATERIALI PERICOLOSI alle [TIME] a/presso [LOCATION]. L'esposizione può causare difficoltà di respirazione, perdita di coordinazione, sensazione di bruciore agli occhi, al naso, alla gola o ai polmoni, nausea e possibilmente il decesso. ALLONTANARSI dalle aree vicino a [LOCATION]. CHI SI METTE ALLA GUIDA per evacuare l'area deve tenere chiusi i finestrini e le prese d'aria dell'auto. NON ritornare nell'area finché non siano i funzionari locali ad emettere il permesso di rientro. [URL]
Evacuation Immediate | [SENDING AGENCY] ha emesso un ordine di evacuazione per [LOCATION] in vigore fino alle [TIME]. Abbandonare immediatamente l'area con la propria famiglia ed eventuali animali domestici, non attardarsi. Prestare attenzione al personale di pubblica sicurezza che opera nella zona e seguire le loro istruzioni. [URL]
Shelter in Place Warning | [SENDING AGENCY] ha emesso un avviso di tenersi al chiuso per [LOCATION], che è in vigore fino alle [TIME]. Pericolo nella tua zona. Spostarsi in una stanza cieca, chiudere porte e finestre e restare sul posto. Prestare attenzione e agire con cautela. [URL]

BILLING CODE 6712-01-P

BILLING CODE 6712-01-C

PORTUGUESE (BRAZILIAN) TRANSLATION

STATIC ALERT TEMPLATES

Alert type | Alert template
MOST COMMONLY ISSUED ALERTS
Tornado Warning | EMERGÊNCIA DE TORNADO. Um tornado foi avistado nesta região. Sua vida está em perigo. Procure imediatamente abrigo em um porão ou dentro de um cômodo no andar mais baixo de um prédio seguro. Se você estiver ao ar livre, em uma casa móvel ou em um veículo, dirija-se ao prédio seguro mais próximo e proteja-se de detritos voadores. Acompanhe a cobertura da mídia.
Flash Flood Warning | Um ALERTA DE EMERGÊNCIA DE INUNDAÇÕES REPENTINAS está em vigor para esta região. Esta é uma situação extremamente perigosa e de risco de vida. Não tente viajar, a menos que esteja deixando uma área sujeita a inundações ou sob uma ordem de evacuação.
Severe Thunderstorm Warning | Um AVISO DE TEMPESTADE SEVERA está em vigor para esta região com ventos DESTRUTIVOS de 80 milhas por hora. Procure abrigo em um prédio seguro e longe de janelas. Os detritos voadores podem ser fatais para aqueles sem abrigo.
Snow Squall Warning | Um ALERTA DE TEMPESTADE DE NEVE está em vigor para esta região. Diminua a velocidade ou adie a sua viagem! Prepare-se para uma queda repentina de visibilidade e gelo nas estradas em caso de neve intensa.
Dust Storm Warning | Um AVISO DE TEMPESTADE DE POEIRA está em vigor para esta região. Esteja preparado para uma queda repentina na visibilidade. Pare no acostamento, fique vivo! Quando a visibilidade diminuir, pare seu veículo fora da estrada. Apague as luzes e tire o pé do freio. Crianças, idosos e pessoas com problemas respiratórios devem tomar precauções.
Hurricane Warning | Um AVISO DE FURACÃO está em vigor para esta região devido aos ventos perigosos. Este aviso é emitido até 36 horas antes do início das condições perigosas. Complete seus preparativos para proteger a vida e a propriedade com urgência. Tenha comida, água, dinheiro, combustível e medicamentos para 3 dias ou mais. SIGA AS INSTRUÇÕES DAS AUTORIDADES LOCAIS.
Storm Surge Warning | Um ALERTA DE MARÉ DE TEMPESTADE (RESSACA) está em vigor para esta região para o perigo de inundações potencialmente fatais. Este alerta é emitido até 36 horas antes do início das condições perigosas. Complete seus preparativos para proteger a vida e a propriedade com urgência. Siga as ordens de evacuação se forem emitidas para esta região para evitar afogamentos ou ficar sem acesso aos serviços de emergência.
Extreme Wind Warning | Um ALERTA DE VENTOS EXTREMOS está em vigor nesta região para perigo imediato de ventos potencialmente fatais. Proteja-se AGORA em um cômodo interno de um prédio seguro e longe das janelas. Proteja sua cabeça de detritos voadores. NÃO saia do abrigo durante a calmaria do olho do furacão! Os ventos rapidamente se tornarão perigosos novamente.
Test Alert | ESTE É UM TESTE do Sistema Nacional de Alertas de Emergência Sem Fio. O objetivo é manter e melhorar as capacidades de aviso e alerta a nível federal, estadual, local, tribal e territorial e avaliar as capacidades públicas de aviso e alerta do país. Não é necessária qualquer ação por parte do público.
MOST TIME-SENSITIVE ALERTS
Tsunami Warning | ALERTA DE MAREMOTO. Uma série de ondas poderosas e correntes fortes podem atingir o litoral perto de você. Você está em perigo. Afaste-se das águas costeiras. Vá imediatamente para um local elevado ou para o interior. Mantenha-se longe do litoral até as autoridades locais informarem que é seguro voltar.
Earthquake Warning | TERREMOTO DETECTADO! Abaixe-se, proteja-se e aguarde.
Boil Water Advisory | Um ALERTA PARA A FERVURA DE ÁGUA está em vigor para a sua região. A água na sua região pode deixá-lo doente. Use água engarrafada, se disponível. Não beba, cozinhe, escove os dentes ou limpe a casa com água da torneira ou filtrada até ferver. Deixe a água ferver por TRÊS MINUTOS. Deixe a água esfriar antes de usar. Não use gelo feito com água que não tenha sido fervida. Se você usa fórmula para alimentar seu filho, use fórmula pronta para consumo. Certifique-se de que os animais de estimação não bebam água que não tenha sido fervida. Acompanhe a cobertura da mídia local.
911 Outage Alert | ALERTA DE INTERRUPÇÃO DO SERVIÇO 911 nesta região. Em caso de emergência, entre em contato com a polícia, bombeiros, médicos ou outros serviços de emergência diretamente por meio dos seus números de telefone locais. É possível você não conseguir ajuda ao discar 911.
Avalanche Warning | ALERTA DE AVALANCHE nesta região. Neve instável e em movimento rápido pode ocorrer rapidamente, causando ferimentos ou morte e pode bloquear estradas e danificar propriedades nas áreas afetadas. SAIA desta área. NÃO retorne à área após a evacuação até receber instruções das autoridades locais. Não é recomendado viajar em terrenos propensos a avalanche. As avalanches podem percorrer longas distâncias.
Fire Warning | AVISO DE INCÊNDIO nesta região. Evacue sua família e animais de estimação agora, não demore. A visibilidade na região estará prejudicada e as estradas podem ficar bloqueadas. Se você não sair agora, você pode ficar preso, ferido ou morto. Espere por visibilidade reduzida, fumaça pesada e dificuldade para respirar. Tenha cuidado ao dirigir. Fique atento ao pessoal de segurança pública que atua na região e siga as suas instruções.
Hazardous Materials Warning | Houve vazamento de SUBSTÂNCIAS PERIGOSAS em sua região. A exposição pode causar dificuldade para respirar, perda de coordenação, sensação de queimação nos olhos, nariz, garganta ou pulmões, náuseas e, possivelmente, morte. SAIA desta área. Se estiver CONDUZINDO UM VEÍCULO para evacuar área, mantenha os vidros e saídas de ar do carro fechados. NÃO retorne à área após a evacuação até receber instruções das autoridades locais.
Evacuation Immediate | EVACUAR IMEDIATAMENTE. Uma Ordem de Evacuação foi emitida para sua região. Evacue sua família e animais de estimação agora, não demore. Fique atento ao pessoal de segurança pública que atua na região e siga as suas instruções.
Shelter in Place Warning | Um ALERTA DE ABRIGUE-SE NO LOCAL foi emitida para sua região. Existe perigo na sua região. Entre em uma sala interna, feche as portas e janelas e fique onde está. Acompanhe a cobertura da mídia local. Fique alerta e tenha cuidado.

FORM-FILLABLE ALERT TEMPLATES

Alert type | Alert template
MOST COMMONLY ISSUED ALERTS
Tornado Warning | [SENDING AGENCY]: EMERGÊNCIA DE TORNADO em [LOCATION] até [TIME]. Tornado avistado nesta região. Esta é uma situação de risco de vida. Procure imediatamente abrigo em um porão ou em um cômodo no interior do andar mais baixo de um edifício seguro. Se você estiver ao ar livre, em uma casa móvel ou em um veículo, dirija-se para o abrigo seguro mais próximo e proteja-se de detritos voadores. Acompanhe a cobertura da mídia local. [URL]
Flash Flood Warning | [SENDING AGENCY]: Um ALERTA DE EMERGÊNCIA DE INUNDAÇÕES REPENTINAS está em vigor para [LOCATION] até [TIME]. Esta é uma situação extremamente perigosa e de risco de vida. Não tente viajar, a menos que esteja deixando uma área sujeita a inundações ou sob uma ordem de evacuação. [URL]
Severe Thunderstorm Warning | [SENDING AGENCY]: AVISO DE TEMPESTADE SEVERA em vigor para [LOCATION] até [TIME] para ventos DESTRUTIVOS de 80 milhas por hora. Procure abrigo em um prédio seguro, longe das janelas. Os detritos voadores podem ser fatais para aqueles sem abrigo. [URL]
Snow Squall Warning | [SENDING AGENCY]: Alerta de tempestade de neve para [LOCATION] até [TIME]. Diminua a velocidade ou adie a sua viagem! Prepare-se para uma queda repentina de visibilidade e gelo nas estradas em caso de neve intensa. [URL]
Dust Storm Warning | [SENDING AGENCY]: AVISO DE TEMPESTADE DE POEIRA para [LOCATION] até [TIME]. Esteja preparado para uma queda repentina na visibilidade. Pare no acostamento, fique vivo! Quando a visibilidade diminuir, pare seu veículo fora da estrada. Apague as luzes e tire o pé do freio. Crianças, idosos e pessoas com problemas respiratórios devem tomar precauções. [URL]
Hurricane Warning | [SENDING AGENCY]: Um AVISO DE FURACÃO está em vigor para [LOCATION] devido a ventos perigosos até [TIME]. Este aviso é emitido até 36 horas antes do início das condições perigosas. Complete seus preparativos para proteger a vida e a propriedade com urgência. Tenha comida, água, dinheiro, combustível e medicamentos para 3 dias ou mais. SIGA AS INSTRUÇÕES DAS AUTORIDADES LOCAIS. [URL]
Storm Surge Warning | [SENDING AGENCY]: Um ALERTA DE MARÉ DE TEMPESTADE (RESSACA) está em vigor para [LOCATION] para o perigo de inundações potencialmente fatais até [TIME]. Este alerta é emitido até 36 horas antes do início das condições perigosas. Complete seus preparativos para proteger a vida e a propriedade com urgência. Siga as ordens de evacuação se forem emitidas para esta região para evitar afogamentos ou ficar sem acesso aos serviços de emergência. [URL]
Extreme Wind Warning | [SENDING AGENCY]: Um AVISO DE VENTOS EXTREMOS está em vigor para [LOCATION] pelo perigo imediato de ventos potencialmente fatais até [TIME]. Proteja-se AGORA em um cômodo interno de um prédio seguro, longe das janelas. Proteja sua cabeça de detritos voadores. NÃO saia do abrigo durante a calmaria do olho do furacão! Os ventos rapidamente se tornarão perigosos novamente. [URL]
Test Alert | ESTE É UM TESTE do Sistema Nacional de Alertas de Emergência Sem Fio enviado por/pela [SENDING AGENCY]. O objetivo é manter e melhorar as capacidades de aviso e alerta a nível federal, estadual, local, tribal e territorial e avaliar as capacidades públicas de aviso e alerta do país. Não é necessária qualquer ação por parte do público. [URL]
MOST TIME-SENSITIVE ALERTS
Tsunami Warning | [SENDING AGENCY]: Um ALERTA DE MAREMOTO para [LOCATION] está em vigor até [TIME]. Uma série de ondas poderosas e correntes fortes podem atingir o litoral perto de você. Você está em perigo. Afaste-se das águas costeiras. Vá imediatamente para um local elevado ou para o interior. Mantenha-se longe do litoral até as autoridades locais informarem que é seguro voltar. [URL]
Earthquake Warning | TERREMOTO DETECTADO! Abaixe-se, proteja-se e aguarde. [SENDING AGENCY] [URL]
Boil Water Advisory | [SENDING AGENCY]: Um ALERTA PARA A FERVURA DE ÁGUA está em vigor para [LOCATION] até [TIME]. A água na sua região pode deixá-lo doente. Use água engarrafada, se disponível. Não beba, cozinhe, escove os dentes ou limpe a casa com água da torneira ou filtrada até ferver. Deixe a água ferver por TRÊS MINUTOS. Deixe a água esfriar antes de usar. Não use gelo feito com água que não tenha sido fervida. Se você usa fórmula para alimentar seu filho, use fórmula pronta para consumo. Certifique-se de que os animais de estimação não bebam água que não tenha sido fervida. [URL]
911 Outage Alert | [SENDING AGENCY]: ALERTA DE INTERRUPÇÃO DO SERVIÇO 911 para [LOCATION] até [TIME]. Em caso de emergência, entre em contato com a polícia, bombeiros, médicos ou outros serviços de emergência diretamente por meio dos seus números de telefone locais. É possível você não conseguir ajuda ao discar 911. [URL]
Avalanche Warning | [SENDING AGENCY]: Um ALERTA DE AVALANCHE está em vigor para [LOCATION] até [TIME]. Neve instável e em movimento rápido pode ocorrer rapidamente, causando ferimentos ou morte e pode bloquear estradas e danificar propriedades nas áreas afetadas. SAIA desta área. NÃO retorne à área após a evacuação até receber instruções das autoridades locais. Não é recomendado viajar em terrenos propensos a avalanche. As avalanches podem percorrer longas distâncias. [URL]
Fire Warning | [SENDING AGENCY] Um AVISO DE INCÊNDIO está em vigor para [LOCATION] até [TIME]. Evacue sua família e animais de estimação agora, não demore. A visibilidade na região estará prejudicada e as estradas podem ficar bloqueadas. Se você não sair agora, você pode ficar preso, ferido ou morto. SAIA das áreas próximas de [LOCATION]. Espere por visibilidade reduzida, fumaça pesada e dificuldade para respirar. Tenha cuidado ao dirigir. Fique atento ao pessoal de segurança pública que atua na região e siga as suas instruções. [URL]
Hazardous Materials Warning | [SENDING AGENCY]: Um vazamento de SUBSTÂNCIAS PERIGOSAS ocorreu às [TIME] em [LOCATION]. A exposição pode causar dificuldade para respirar, perda de coordenação, sensação de queimação nos olhos, nariz, garganta ou pulmões, náuseas e, possivelmente, morte. SAIA das regiões próximas de [LOCATION]. Se estiver CONDUZINDO UM VEÍCULO para evacuar a área, mantenha os vidros e saídas de ar do carro fechados. NÃO retorne à área após a evacuação até receber instruções das autoridades locais. [URL]
Evacuation Immediate | [SENDING AGENCY] emitiu uma ordem para evacuar a região de [LOCATION] em vigor até [TIME]. Evacue sua família e animais de estimação agora, não demore. Fique atento ao pessoal de segurança pública que atua na região e siga as suas instruções. [URL]
Shelter in Place Warning | [SENDING AGENCY] emitiu uma ordem para abrigar-se no local para [LOCATION] em vigor até [TIME]. Existe perigo na sua região. Entre em uma sala interna, feche as portas e janelas e fique onde está. Acompanhe a cobertura da mídia local. Fique alerta e tenha cuidado. [URL]

BILLING CODE 6712-01-P

BILLING CODE 6712-01-C

SPANISH TRANSLATION

STATIC ALERT TEMPLATES

Alert type | Alert template
MOST COMMONLY ISSUED ALERTS
Tornado Warning | EMERGENCIA POR TORNADO. Un tornado se ha detectado en esta área. Esta es una situación con peligro de muerte. Resguárdese ahora en un subterráneo o en una habitación interior en el piso más bajo de algún edificio resistente. Si usted está en exteriores, en una casa rodante o en un vehículo, trasládese al lugar más resguardado posible y protéjase de los escombros que vuelan por el aire. Siga los medios de comunicación.
Flash Flood Warning | UNA EMERGENCIA POR INUNDACIÓN REPENTINA está en efecto para esta área. La situación es extremadamente peligrosa y con riesgo de muerte. No intente movilizarse, excepto si es para abandonar un área de inundación o por orden de evacuación.
Severe Thunderstorm Warning | ADVERTENCIA DE FUERTE TORMENTA ELÉCTRICA en efecto para esta área por vientos DESTRUCTIVOS de 80 millas por hora. Resguárdese en un edificio resistente, lejos de las ventanas. Los escombros que vuelan impulsados por los fuertes vientos pueden ser mortales para quienes no estén resguardados.
Snow Squall Warning | ADVERTENCIA DE TORMENTA DE NIEVE en efecto para esta área. ¡Baje la velocidad o postergue su viaje! Prepárese para una repentina reducción o ausencia total de visibilidad y hielo en las carreteras con intensas nevadas.
Dust Storm Warning | ADVERTENCIA DE TORMENTA DE POLVO Y ARENA en efecto para esta área. Prepárese para una repentina reducción o total ausencia de visibilidad. Hágase a un lado. ¡No pierda su vida! Cuando pierda visibilidad, salga de la carretera y ponga el embrague de su vehículo en “estacionar”. Apague las luces y saque el pie de los frenos. Se insta a tomar precauciones adicionales para los niños de corta edad, ancianos y personas con problemas respiratorios.
Hurricane Warning | UNA ADVERTENCIA DE HURACÁN está en efecto para esta área por vientos peligrosos que pueden causar daños. Esta advertencia se emite hasta 36 horas antes de que las condiciones peligrosas comiencen. Es urgente que complete esfuerzos para proteger vidas y propiedad. Asegure disponibilidad de alimentos, agua, dinero en efectivo, combustible y medicamentos para un mínimo de 3 días. SIGA LAS INSTRUCCIONES DE LAS AUTORIDADES LOCALES.
Storm Surge Warning | UNA ADVERTENCIA DE MAREJADA CICLÓNICA está en efecto para esta área por peligro de inundaciones con riesgo de muerte. Esta advertencia se emite hasta 36 horas antes de que las condiciones peligrosas comiencen. Es urgente que complete esfuerzos para proteger vidas y propiedad. Siga posibles órdenes de evacuación de esta área para evitar muertes por ahogo o aislamiento sin acceso a los servicios de emergencia.
Extreme Wind Warning | Una ADVERTENCIA DE VIENTOS EXTREMADAMENTE FUERTES está en efecto para esta área por peligro inmediato de fuertes vientos con riesgo de muerte. Resguárdese AHORA en alguna habitación interior de un edificio resistente y lejos de las ventanas. Proteja su cabeza de escombros que vuelan impulsados por el viento. ¡NO salga en medio de la calma del ojo del huracán! Los vientos pronto volverán a ser peligrosos.
Test Alert | ESTA ES UNA PRUEBA del sistema nacional de alertas de emergencia inalámbricas (National Wireless Emergency Alert System). El propósito es mantener y mejorar las capacidades de alerta y de advertencia a nivel federal, estatal, local, Tribal y territorial, y evaluar la capacidad nacional de las alertas y advertencias públicas. El público no necesita hacer nada.
MOST TIME-SENSITIVE ALERTS
Tsunami Warning | ADVERTENCIA DE TSUNAMI. Una serie de grandes olas y fuertes corrientes podrían afectar las zonas costeras cercanas a su área. Usted está en peligro. Aléjese ahora mismo de las aguas costeras y diríjase a terrenos elevados o lejos de la costa. Manténgase alejado de la costa hasta que las autoridades le avisen que puede regresar sin peligro.
Earthquake Warning | ¡TEMBLOR O TERREMOTO DETECTADO! Agáchese a nivel del suelo, cúbrase, espere. Protéjase.
Boil Water Advisory | ¡ALERTA! HIERVA EL AGUA en su área. El agua en su comunidad podría enfermarle. Use agua embotellada si está disponible. No beba agua del grifo, aunque esté filtrada, no la use para cocinar o lavarse los dientes ni para limpiar su hogar. Hiérvala antes. El agua debe hervir por lo menos TRES MINUTOS. Enfríe el agua antes de usarla. No use cubos de hielo preparados con agua sin hervir. Si usa leche preparada para su bebé, use la que viene lista (no la que requiere agua). Asegúrese de que sus mascotas no beban agua sin hervir. Siga los medios de comunicación locales.
911 Outage Alert | ALERTA POR INTERRUPCIÓN DE SERVICIOS 911 en esta área. En caso de emergencia, contáctese con las autoridades policiales, de bomberos, de asistencia médica u otros servicios de emergencia, llamando directamente a sus teléfonos locales. Puede no obtener ayuda si llama al 911.
Avalanche Warning | ADVERTENCIA DE AVALANCHA para esta área. El rápido movimiento de nieve inestable puede ocurrir repentinamente, con peligro de daño físico o muerte, y podría bloquear caminos y dañar propiedades en las áreas afectadas. ABANDONE esta área. NO vuelva al área tras la evacuación hasta que las autoridades se lo indiquen. No se recomienda viajar en terrenos con avalanchas. Las avalanchas pueden alcanzar grandes distancias.
Fire Warning | ADVERTENCIA DE INCENDIO en esta área. Evacúe a su familia y mascotas ahora, sin demoras. La visibilidad del área disminuirá y los caminos podrían resultar bloqueados. Si usted no abandona el área ahora, podría quedar atrapado, resultar herido o morir. Prepárese para una reducción de la visibilidad, denso humo y dificultad para respirar. Maneje con cuidado. Manténgase atento ante la posible presencia de personal de seguridad operando en el área y siga sus instrucciones.

FORM-FILLABLE ALERT TEMPLATES

Alert type | Alert template
MOST COMMONLY ISSUED ALERTS
Tornado Warning | [SENDING AGENCY]: EMERGENCIA POR TORNADO en [LOCATION] hasta [TIME]. Un tornado se ha detectado en esta área. Esta es una situación con peligro de muerte. Resguárdese ahora en un subterráneo o en una habitación interior en el piso más bajo de algún edificio resistente. Si usted está en exteriores, en una casa rodante o en un vehículo, trasládese al lugar más resguardado posible y protéjase de los escombros que vuelan por el aire. Siga los medios de comunicación. [URL]
Flash Flood Warning | [SENDING AGENCY]: UNA EMERGENCIA POR INUNDACIÓN REPENTINA está en efecto para [LOCATION] hasta [TIME]. La situación es extremadamente peligrosa y con riesgo de muerte. No intente movilizarse, excepto si es para abandonar un área de inundación o por orden de evacuación. [URL]
Severe Thunderstorm Warning | [SENDING AGENCY]: ADVERTENCIA DE FUERTE TORMENTA ELÉCTRICA en efecto para [LOCATION] hasta [TIME] por vientos DESTRUCTIVOS de 80 millas por hora. Resguárdese en un edificio resistente, lejos de las ventanas. Los escombros que vuelan impulsados por los fuertes vientos pueden ser mortales para quienes no estén resguardados. [URL]
Snow Squall Warning | [SENDING AGENCY]: Advertencia de Tormenta de Nieve para [LOCATION] hasta [TIME] ¡Baje la velocidad o postergue su viaje! Prepárese para una repentina reducción o ausencia total de visibilidad y hielo en las carreteras con intensas nevadas. [URL]
Dust Storm Warning | [SENDING AGENCY]: ADVERTENCIA DE TORMENTA DE POLVO Y ARENA para [LOCATION] hasta [TIME]. Prepárese para una repentina reducción o total ausencia de visibilidad. Hágase a un lado. ¡No pierda su vida! Cuando pierda visibilidad, salga de la carretera y ponga el embrague de su vehículo en “estacionar”. Apague las luces y saque el pie de los frenos. Se insta a tomar precauciones adicionales para los niños de corta edad, ancianos y personas con problemas respiratorios. [URL]
Hurricane Warning | [SENDING AGENCY]: UNA ADVERTENCIA DE HURACÁN está en efecto para [LOCATION] hasta [TIME] por vientos peligrosos que pueden causar daños. Esta advertencia se emite hasta 36 horas antes de que las condiciones peligrosas comiencen. Es urgente que complete esfuerzos para proteger vidas y propiedad. Asegure disponibilidad de alimentos, agua, dinero en efectivo, combustible y medicamentos para un mínimo de 3 días. SIGA LAS INSTRUCCIONES DE LAS AUTORIDADES LOCALES. [URL]
Storm Surge Warning | [SENDING AGENCY]: UNA ADVERTENCIA DE MAREJADA CICLÓNICA está en efecto para [LOCATION] hasta [TIME] por peligro de inundaciones con riesgo de muerte. Esta advertencia se emite hasta 36 horas antes de que las condiciones peligrosas comiencen. Es urgente que complete esfuerzos para proteger vidas y propiedad. Siga posibles órdenes de evacuación de esta área para evitar muertes por ahogo o aislamiento sin acceso a los servicios de emergencia. [URL]
Extreme Wind Warning | [SENDING AGENCY]: Una ADVERTENCIA DE VIENTOS EXTREMADAMENTE FUERTES está en efecto para [LOCATION] hasta [TIME] por peligro inmediato de fuertes vientos con riesgo de muerte. Resguárdese AHORA en alguna habitación interior de un edificio resistente y lejos de las ventanas. Proteja su cabeza de escombros que vuelan impulsados por el viento. ¡NO salga en medio de la calma del ojo del huracán! Los vientos pronto volverán a ser peligrosos. [URL]
Test Alert | ESTA ES UNA PRUEBA del sistema nacional de alertas de emergencia inalámbricas (National Wireless Emergency Alert System) enviada por [SENDING AGENCY]. El propósito es mantener y mejorar las capacidades de alerta y de advertencia a nivel federal, estatal, local, Tribal y territorial, y evaluar la capacidad nacional de las alertas y advertencias públicas. El público no necesita hacer nada. [URL]
MOST TIME-SENSITIVE ALERTS
Tsunami Warning | [SENDING AGENCY]: Una ADVERTENCIA DE TSUNAMI para [LOCATION] está en efecto hasta [TIME]. Una serie de grandes olas y fuertes corrientes podrían afectar las zonas costeras cercanas a su área. Usted está en peligro. Aléjese ahora mismo de las aguas costeras y diríjase a terrenos elevados o lejos de la costa. Manténgase alejado de la costa hasta que las autoridades le avisen que puede regresar sin peligro. [URL]
Earthquake Warning | ¡TEMBLOR O TERREMOTO DETECTADO! Agáchese a nivel del suelo, cúbrase, espere. Protéjase. [SENDING AGENCY] [URL]
Boil Water Advisory | [SENDING AGENCY]: ¡ALERTA! HIERVA EL AGUA en [LOCATION] hasta [TIME]. El agua en su comunidad podría enfermarle. Use agua embotellada si está disponible. No beba agua del grifo, aunque esté filtrada, no la use para cocinar o lavarse los dientes ni para limpiar su hogar. Hiérvala antes. El agua debe hervir por lo menos TRES MINUTOS. Enfríe el agua antes de usarla. No use cubos de hielo preparados con agua sin hervir. Si usa leche preparada para su bebé, use la que viene lista (no la que requiere agua). Asegúrese de que sus mascotas no beban agua sin hervir. Siga los medios de comunicación locales. [URL]
911 Outage Alert | [SENDING AGENCY]: ALERTA POR INTERRUPCIÓN DE SERVICIOS 911 en [LOCATION] hasta [TIME]. En caso de emergencia, contáctese con las autoridades policiales, de bomberos, de asistencia médica u otros servicios de emergencia, llamando directamente a sus teléfonos locales. Puede no obtener ayuda si llama al 911. [URL]
Avalanche Warning | [SENDING AGENCY]: ADVERTENCIA DE AVALANCHA para [LOCATION] en efecto hasta [TIME]. El rápido movimiento de nieve inestable puede ocurrir repentinamente, con peligro de daño físico o muerte, y podría bloquear caminos y dañar propiedades en las áreas afectadas. ABANDONE áreas cercanas a [LOCATION]. NO vuelva al área tras la evacuación hasta que las autoridades se lo indiquen. No se recomienda viajar en terrenos con avalanchas. Las avalanchas pueden alcanzar grandes distancias. [URL]
Fire Warning | [SENDING AGENCY] Una ADVERTENCIA DE INCENDIO en [LOCATION] está en efecto hasta [TIME]. Evacúe a su familia y mascotas ahora, sin demoras. La visibilidad del área disminuirá y los caminos podrían resultar bloqueados. Si usted no abandona el área ahora, podría quedar atrapado, resultar herido o morir. ABANDONE las áreas cercanas a [LOCATION]. Prepárese para una reducción de la visibilidad, denso humo y dificultad para respirar. Maneje con cuidado. Manténgase atento ante la posible presencia de personal de seguridad operando en el área y siga sus instrucciones. [URL]
Hazardous Materials Warning | [SENDING AGENCY]: UNA EMANACIÓN DE SUSTANCIAS PELIGROSAS ha ocurrido a las [TIME] en [LOCATION]. La exposición a dichas sustancias puede causar dificultades respiratorias, pérdida de coordinación, sensación de ardor en los ojos, nariz, garganta o pulmones, nausea y riesgo de muerte. ABANDONE [LOCATION]. SI CONDUCE para evacuar el área, mantenga el vehículo con las ventanas y ventilaciones cerradas. NO VUELVA al área tras la evacuación a menos que las autoridades locales se lo indiquen. [URL]
Evacuation Immediate | [SENDING AGENCY] ha emitido una orden de evacuación inmediata para [LOCATION] en efecto hasta [TIME]. Evacúe a su familia y mascotas ahora mismo, sin demoras. Preste atención al personal de seguridad pública que opera en el área y siga sus instrucciones. [URL]
Shelter in Place Warning | [SENDING AGENCY] emitió una ADVERTENCIA DE REFUGIO EN EL LUGAR DONDE ESTÁ para [LOCATION] en efecto hasta [TIME]. Hay peligro en su área. Entre a una habitación interior, cierre las puertas y ventanas y manténgase en el lugar donde está. Manténgase alerta y actúe con precaución. [URL]

TAGALOG (FILIPINO) TRANSLATION

STATIC ALERT TEMPLATES

Alert type | Alert template
MOST COMMONLY ISSUED ALERTS
Tornado Warning | TORNADO EMERGENCY. May nakitang buhawi sa lugar na ito. Isa itong sitwasyon na nagbabanta sa buhay. Sumilong na sa isang basement o isang panloob na kuwarto sa pinakamababang palapag ng isang matibay na gusali. Kung nasa labas ka, sa isang mobile home, o sa isang sasakyan, lumipat sa pinakamalapit na malaking silungan at protektahan ang iyong sarili mula sa lumilipad na mga labi. Tingnan ang media.
Flash Flood Warning | May FLASH FLOOD EMERGENCY para sa lugar na ito. Isa itong sitwasyon na lubhang mapanganib at nagbabanta sa buhay. Huwag subukang maglakbay maliban kung tumatakas ka sa isang lugar na napapailalim sa pagbaha o sa ilalim ng isang utos ng paglikas.
Severe Thunderstorm Warning | May BABALA SA MALUBHANG BAGYO NA MAY KULOG AT KIDLAT para sa lugar na ito dahil sa MAPAMINSALANG 80 milya kada oras na hangin. Sumilong sa isang matibay na gusali nang malayo sa mga bintana. Maaaring nakamamatay ang mga lumilipad na debris sa mga maaabutan nang walang silungan.
Snow Squall Warning | May BABALA SA SNOW SQUALL para sa lugar na ito. Bagalan o ipagpaliban ang paglalakbay! Maging handa para sa biglaang pagbaba sa halos zero visibility at nagyeyelong mga kalsada sa makapal na niyebe.
Dust Storm Warning | May BABALA SA DUST STORM para sa lugar na ito. Maging handa para sa biglaang pagbaba sa zero visibility. Tumabi, Manatiling Buhay! Kapag bumaba ang visibility, huminto sa malayo sa kalsada at ilagay ang iyong sasakyan sa pag-park. Patayin ang mga ilaw at ilayo ang iyong paa sa preno. Hinikayat ang mga sanggol, matatanda at may mga problema sa paghinga na mag-ingat.
Hurricane Warning | May BABALA SA HURRICANE para sa lugar na ito para sa mapanganib at mapaminsalang hangin. Ibinibigay ang babalang ito hanggang 36 na oras bago magsimula ang mga mapanganib na kondisyon. Tapusin agad ang mga pagsisikap na protektahan ang buhay at ari-arian. Magkaroon ng pagkain, tubig, pera, gasolina, at mga gamot na tatagal ng 3+ araw. SUNDIN ANG MGA DIREKSYON MULA SA MGA LOKAL NA OPISYAL.
Storm Surge Warning | May BABALA SA STORM SURGE para sa lugar na ito para sa panganib ng pagbaha na nagbabanta sa buhay. Ibinibigay lang hanggang 36 na oras bago magsimula ang mga mapanganib na kondisyon. Tapusin agad ang mga pagsisikap na protektahan ang buhay at ari-arian. Sundin ang mga utos sa paglikas kung ibinigay para sa lugar na ito para maiwasan ang pagkalunod o pagkaputol sa mga serbisyong pang-emergency.
Extreme Wind Warning | MAY BABALA SA MATINDING HANGIN para sa lugar na ito dahil sa agarang panganib ng mga hanging nagbabanta sa buhay. Magtago NGAYON sa isang panloob na kuwarto ng isang matibay na gusali, malayo sa mga bintana. Protektahan ang iyong ulo mula sa lumilipad na debris. HUWAG lumabas kapag kumalma ang panahon sa mata ng bagyo! Mabilis na magiging mapanganib muli ang hangin.
Test Alert | PAGTESTING ITO ng National Wireless Emergency Alert System. Layunin nitong mapanatili at pagbutihin ang mga kakayahan sa alert at babala sa mga antas ng pederal, estado, lokal, Tribal at teritoryal at para magawan ng ebalwasyon ang pampublikong alerto at mga kakayahan sa babala ng bansa. Walang aksyon ang kailangan ng publiko.
MOST TIME-SENSITIVE ALERTS
Tsunami Warning | BABALA sa TSUNAMI. Ang isang serye ng malalakas na alon at malakas na alon ay maaaring makaapekto sa mga baybayin na malapit sa iyo. Nasa panganib ka. Lumayo sa mga tubig sa baybayin. Lumipat sa mataas na lupa o sa loob ng bansa ngayon. Lumayo sa baybayin hanggang sa sabihin ng mga lokal na opisyal na ligtas nang bumalik.
Earthquake Warning | NAKA-DETECT NG LINDOL! Umupo, Magtakip, Kumapit. Protektahan ang Iyong Sarili.
Boil Water Advisory | ALERT SA PAGPAPAKULO NG TUBIG na ibinigay para sa inyong lugar. Ang tubig sa iyong komunidad ay maaaring magdulot ng sakit sa iyo. Gumamit ng nakaboteng tubig kung available. Huwag uminom, magluto, magsepilyo ng iyong ngipin, o linisin ang iyong tahanan gamit ang gripo o sinalang tubig hanggang sa pakuluan mo ito. Pakuluan ang tubig sa loob ng TATLONG MINUTO. Hayaang lumamig ang tubig bago gamitin. Huwag gumamit ng yelo na gawa sa tubig na hindi pa pinakuluan. Kung gagamit ka ng formula para pakainin ang iyong anak, gumamit ng ready-to-use formula. Siguraduhin na a hindi umiinom ng tubig na hindi pa pinakuluan ng mga alagang hayop. Tingnan ang lokal na media.
911 Outage Alert | May ALERT SA PAGKAWALA NG 911 sa lugar na ito. Pakikontak ang pulisya, bumbero, medikal, o iba pang mga serbisyong pang-emergency nang direkta sa kanilang mga lokal na numero ng telepono kung sakaling magkaroon ng emergency. Kung magda-dial ka sa 911, maaaring hindi ka makakuha ng tulong.
Avalanche Warning | May BABALA NG AVALANCE sa lugar na ito. Ang unstable at mabilis na paggalaw ng snow ay maaaring mangyari nang biglaan, na nagdudulot ng pinsala o kamatayan at maaaring humarang sa mga kalsada at makapinsala sa mga ari-arian sa mga apektadong lugar. UMALIS sa lugar na ito. HUWAG bumalik sa lugar pagkatapos ng paglikas hanggang sa iatas ng mga lokal na opisyal. Hindi inirerekomenda ang paglalakbay sa avalanche terrain. Maaaring umabot ng malalayong distansya ang mga avalanche.
Fire Warning | BABALA SA SUNOG sa lugar na ito. Ilikas ang iyong pamilya at mga alagang hayop ngayon, huwag magpahuli. Mababawasan ang visibility sa lugar at maaaring maharangan ang mga kalsada. Kung hindi ka aalis ngayon, maaari kang makulong, masugatan, o mamatay. Asahan ang pagbawas ng visibility, mabigat na usok, at kahirapan sa paghinga. Mag-ingat sa pagmamaneho. Bantayan ang mga public safety personnel na nagtatrabaho sa lugar at sundin ang kanilang mga direksyon.
Hazardous Materials Warning | Isang release ng MGA MAPANGANIB NA MATERYAL ang naganap sa iyong lugar. Maaaring magdulot ang pagka-expose ng kahirapan sa paghinga, pagkawala ng koordinasyon, pagkasunog sa mata, ilong, lalamunan, o baga, pagduduwal, at posibleng kamatayan. UMALIS sa lugar na ito. KUNG NAGMAMANEHO para lumikas sa lugar, panatilihing nakasara ang mga bintana at vent ng sasakyan. HUWAG bumalik sa lugar pagkatapos ng paglikas hanggang sa iatas ng mga lokal na opisyal.
Evacuation Immediate | UMALIS KA AGAD. Inilabas ang utos ng paglikas sa iyong lugar. Ilikas ang iyong pamilya at mga alagang hayop ngayon, huwag magpahuli. Abangan ang mga public safety personnel na nagtatrabaho sa lugar at sundin ang kanilang mga direksyon.
Shelter in Place Warning | May BABALA SA PAGHANAP NG MASISILUNGAN na ibinigay sa iyong lugar. May panganib sa inyong lugar. Pumasok sa loob sa isang kuwarto sa loob, isara ang mga pinto at bintana, at manatili kung nasaan ka. Tingnan ang lokal na media. Manatiling alerto at mag-ingat.

FORM-FILLABLE ALERT TEMPLATES

Alert type | Alert template
MOST COMMONLY ISSUED ALERTS
Tornado Warning | [SENDING AGENCY]: EMERGENCY NG BUHAWI sa [LOCATION] hanggang [TIME]. May nakitang buhawi sa lugar na ito. Isa itong sitwasyon na nagbabanta sa buhay. Sumilong ngayon sa isang basement o isang panloob na kuwarto sa pinakamababang palapag ng isang matibay na gusali. Kung nasa labas ka, sa isang mobile home, o sa isang sasakyan, lumipat sa pinakamalapit na malaking silungan at protektahan ang iyong sarili mula sa lumilipad na debris. Tingnan ang media. [URL]
Flash Flood Warning | [SENDING AGENCY]: May FLASH FLOOD EMERGENCY para sa [LOCATION] hanggang [TIME]. Isa itong sitwasyon na lubhang mapanganib at nagbabanta sa buhay. Huwag subukang maglakbay maliban kung tumatakas ka sa isang lugar na napapailalim sa pagbaha o sa ilalim ng isang utos ng paglikas. [URL]
Severe Thunderstorm Warning | [SENDING AGENCY]: May BABALA SA MALUBHANG BAGYO NA MAY KULOG AT KIDLAT para sa [LOCATION] hanggang [TIME] dahil sa MAPAMINSALANG hanging 80 milya kada oras. Sumilong sa isang matibay na gusali nangmalayo sa mga bintana. Maaaring nakamamatay ang lumilipad na debris sa mga maaabutannang walang silungan. [URL]
Snow Squall Warning | [SENDING AGENCY]: Babala sa Snow Squall para sa [LOCATION] hanggang [TIME]. Bagalan o ipagpaliban ang paglalakbay! Maging handa para sa biglaang pagbaba sa halos zero visibility at nagyeyelong mga kalsada sa makapal na niyebe. [URL]
Dust Storm Warning | [SENDING AGENCY]: BABALA SA DUST STORM para sa [LOCATION] hanggang [TIME]. Maging handa para sa biglaang pagbaba sa zero visibility. Tumabi, Manatiling Buhay! Kapag bumaba ang visibility, huminto sa malayo sa kalsada at i-park ang iyong sasakyan. Patayin ang mga ilaw at alisin ang iyong paa sa preno. Hinihikayat na mag-ingat ang mga sanggol, matatanda at mga may problema sa paghinga. [URL]
Hurricane Warning | [SENDING AGENCY]: MAYBABALA NG HURRICANE para sa [LOCATION] dahil sa mga mapanganib at mapaminsalang hangin na may bisa hanggang [TIME] . Ibinibigay ang babalang ito hanggang 36 na oras bago magsimula ang mga mapanganib na kondisyon. Tapusin agad ang mga pagsisikap na protektahan ang buhay at ari-arian. Magkaroon ng pagkain, tubig, pera, gasolina, at mga gamot na tatagal nang 3+ araw. SUNDIN ANG MGA DIREKSYON MULA SA MGA LOKAL NA OPISYAL. [URL]
Storm Surge Warning | [SENDING AGENCY]: MAY BABALA SA STORM SURGE para sa [LOCATION] para sa panganib ng nagbabanta sa buhay na pagbaha hanggang [TIME]. Ibinibigay ang babalang ito hanggang 36 na oras bago magsimula ang mga mapanganib na kondisyon. Tapusin agad ang mga pagsisikap na protektahan ang buhay at ari-arian. Sundin ang mga utos sa paglikas kung ibinigay para sa lugar na ito para maiwasan ang pagkalunod o pagkaputol sa mga serbisyong pang-emergency. [URL]
Extreme Wind Warning | [SENDING AGENCY]: May BABALA SAMATINDING HANGIN para sa [LOCATION] dahil sa agarang panganib ng mga hanging nagbabanta sa buhay hanggang [TIME]. Magtago NGAYON sa isang panloob na kuwarto ng isang matibay na gusali nangmalayo sa mga bintana. Protektahan ang iyong ulo mula sa lumilipad na debris. HUWAG lumabas kapag kalmado na dahil sa mata ng bagyo! Mabilis na magiging mapanganib muli ang hangin. [URL]
Test Alert | PAGTESTING ITO ng National Wireless Emergency Alert System na ipinadala ng [SENDING AGENCY]. Layunin nitong panatilihin at pagandahin ang mga kakayahan sa alert at babala sa mga antas ng pederal, estado, lokal, Tribal at teritoryal at para gawan ng ebalwasyon ang mga kakayahan sa pampublikong alert at babala ng bansa. Walang kinakailangang aksyon ng publiko. [URL]
MOST TIME-SENSITIVE ALERTS
Tsunami Warning | [SENDING AGENCY]: Ang TSUNAMI WARNING para sa [LOCATION] ay may bisa hanggang [TIME]. Ang isang serye ng malalakas na alon at malakas na alon ay maaaring makaapekto sa mga baybayin na malapit sa iyo. Nasa panganib ka. Lumayo sa mga tubig sa baybayin. Lumipat sa mataas na lupa o sa loob ng bansa ngayon. Lumayo sa baybayin hanggang sa sabihin ng mga lokal na opisyal na ligtas nang bumalik. [URL]
Earthquake Warning | NAKA-DETECT NG LINDOL! Umupo, Magtakip, Kumapit. Protektahan ang Iyong Sarili. [SENDING AGENCY] [URL]
Boil Water Advisory | [SENDING AGENCY]: Ang ALERT SA PAGPAPAKULO NG TUBIG na ibinigay para sa [LOCATION] ay may bisa hanggang [TIME]. Ang tubig sa iyong komunidad ay maaaring magdulot ng sakit sa iyo. Gumamit ng nakaboteng tubig kung available. Huwag uminom, magluto, magsepilyo ng iyong ngipin, o linisin ang iyong tahanan gamit ang gripo o sinalang tubig hanggang sa pakuluan mo ito. Pakuluan ang tubig sa loob ng TATLONG MINUTO. Hayaang lumamig ang tubig bago gamitin. Huwag gumamit ng yelo na gawa sa tubig na hindi pa pinakuluan. Kung gagamit ka ng formula para pakainin ang iyong anak, gumamit ng ready-to-use formula. Siguraduhin na hindi umiinom ng tubig na hindi pa pinakuluan ang mga alagang hayop. [URL]
911 Outage Alert | [SENDING AGENCY]: ALERT SA PAGKWALA NG 911 sa [LOCATION] hanggang [TIME]. Pakikontak ang pulisya, bumbero, medikal, o iba pang mga serbisyong pang-emergency nang direkta sa kanilang mga lokal na numero ng telepono kung sakaling magkaroon ng emergency. Kung magda-dial ka sa 911, maaaring hindi ka makakuha ng tulong. [URL]
Avalanche Warning | [SENDING AGENCY]: Ang BABALA SA AVALANCE na may bisa sa [LOCATION] ay may bisa hanggang [TIME]. Ang unstable at mabilis na paggalaw ng snow ay maaaring mangyari nang biglaan, na nagdudulot ng pinsala o kamatayan at maaaring humarang sa mga kalsada at makapinsala sa mga ari-arian sa mga apektadong lugar. UMALIS sa mga lugar na malapit sa [LOCATION]. HUWAG bumalik sa lugar pagkatapos ng paglikas hanggang sa iatas ng mga lokal na opisyal. Hindi inirerekomenda ang paglalakbay sa avalanche terrain. Maaaring umabot ng malalayong distansya ang mga avalanches. [URL]
Fire Warning | [SENDING AGENCY] Ang BABALA SA SUNOG sa [LOCATION] ay may bisa hanggang [TIME]. Ilikas ang iyong pamilya at mga alagang hayop ngayon, huwag magpahuli. Mababawasan ang visibility sa lugar at maaaring maharangan ang mga kalsada. Kung hindi ka aalis ngayon, maaari kang makulong, masugatan, o mapatay. UMALIS sa mga lugar na malapit sa [LOCATION]. Asahan ang pagbawas ng visibility, mabigat na usok, at kahirapan sa paghinga. Mag-ingat sa pagmamaneho. Abangan ang mga public safety personnel na nagtatrabaho sa lugar at sundin ang kanilang mga direksyon. [URL]
Hazardous Materials Warning | [SENDING AGENCY]: Isang release ng MGA MAPANGANIB NA MATERYAL ang naganap noong [TIME] sa [LOCATION]. Maaaring magdulot ang pagka-expose ng kahirapan sa paghinga, pagkawala ng koordinasyon, pagkasunog sa mata, ilong, lalamunan, o baga, pagduduwal, at posibleng kamatayan. UMALIS sa mga lugar na malapit sa [LOCATION]. KUNG NAGMAMANEHO para lumikas sa lugar, panatilihing nakasara ang mga bintana at vent ng sasakyan. HUWAG bumalik sa lugar pagkatapos ng paglikas maliban kung iniatas ng mga lokal na opisyal. [URL]
Evacuation Immediate | Naglabas ang [SENDING AGENCY] ng kautusan na lumikas para sa [LOCATION] na may bisa hanggang [TIME]. Ilikas ang iyong pamilya at mga alagang hayop ngayon, huwag magpahuli. Abangan ang mga public safety personnel na nagtatrabaho sa lugar at sundin ang kanilang mga direksyon. [URL]
Shelter in Place Warning | Nagbigay ang [SENDING AGENCY] ng babala sa paghahanap ng magsisilungan para sa [LOCATION] na may bisa hanggang [TIME]. May panganib sa inyong lugar. Pumasok sa loob ng kuwarto sa loob, isara ang mga pinto at bintana, at manatili kung nasaan ka. Manatiling alerto at mag-ingat. [URL]

BILLING CODE 6712-01-P

List of Subjects in 47 CFR Part 10

Communications equipment, Emergency preparedness, Language accessibility.

Federal Communications Commission.
Marlene Dortch,
Secretary.

Proposed Rules

For the reasons discussed in the document above, the Federal Communications Commission proposes to amend 47 CFR part 10 as follows:

PART 10—WIRELESS EMERGENCY ALERTS

1. The authority citation for part 10 is revised to read as follows:

Authority: 47 U.S.C. 151, 152, 154(i), 154(n), 201, 301, 303(b), 303(e), 303(g), 303(j), 303(r), 307, 309, 316, 403, 544(g), 606, 1201, 1202, 1203, 1204, and 1206.

2. Delayed indefinitely, amend § 10.480 by reserving paragraph (b) and adding paragraph (c) to read as follows:

§ 10.480 Language support.

* * * * *

(b) [Reserved]

(c) The pre-scripted alert templates that must be supported are provided at https://www.fcc.gov/multilingual-wireless-emergency-alerts.

[FR Doc. 2024-07401 Filed 5-10-24; 8:45 am]

BILLING CODE 6712-01-C